DEPARTMENT OF STATE

[Public Notice: 12856]

Notice of 2024 Department of State Sanctions Actions Pursuant to the Executive Order Regarding Blocking Property With Respect to Specified Harmful Foreign Activities of the Government of the Russian Federation

SUMMARY: The Department of State is publishing the names of one or more persons that were placed on the Department of Treasury's List of Specially Designated Nationals and Blocked Persons (SDN List) administered by the Office of Foreign Asset Control (OFAC) in 2024 based on the Department of State's determination, in consultation with other departments, as appropriate, that one or more applicable legal criteria of the Executive Order regarding blocking property with respect to specified harmful foreign activities of the Government of the Russian Federation were satisfied. All property and interests in property subject to U.S. jurisdiction of these persons are blocked, and U.S. persons are generally prohibited from engaging in transactions with them.

DATES: These actions were issued on January 11, 2024, February 23, 2024, May 1, 2024, June 12, 2024, August 23, 2024, September 10, 2024, and October 30, 2024, respectively. See SUPPLEMENTARY INFORMATION section for effective date(s) in 2024.

FOR FURTHER INFORMATION CONTACT: Office of Counterproliferation Initiatives, Bureau of Arms Control and Nonproliferation, Department of State, Washington, DC 20520, tel.: (202) 647 5193, email: ACN_Sanctions@state.gov.

SUPPLEMENTARY INFORMATION:

Electronic Availability

The SDN List and additional information concerning OFAC sanctions programs are available on OFAC's website (https://www.treasury.gov/ofac). The announcements for these actions are available on the Department of State's website (https://2021-2025.state.gov/the-united-states-takes-action-in-response-to-dprk-russia-ballistic-missile-transfers-and-testing/; https://2021-2025.state.gov/imposing-measures-in-response-to-navalnys-death-and-two-years-of-russias-full-scale-war-against-ukraine/; https://2021-2025.state.gov/imposing-new-measures-on-russia-for-its-full-scale-war-and-use-of-chemical-weapons-against-ukraine-2/; https://2021-2025.state.gov/taking-additional-measures-to-degrade-russias-wartime-economy/; https://2021-2025.state.gov/new-measures-to-degrade-russias-wartime-economy/; https://2021-2025.state.gov/new-iran-and-russia-sanctions-designations/; https://2021-2025.state.gov/new-measures-targeting-third-country-enablers-supporting-russias-military-industrial-base/).

Notice of Department of State Actions

On January 11, 2024, the Department of State, in consultation with other departments, as appropriate, determined that the property and interests in property subject to U.S. jurisdiction of the following persons are blocked under the relevant sanctions authority listed below.

Individuals

1. MIKHEYCHIK, Vladimir Vladimirovich (a.k.a. MIKHEICHIK, Vladimir Vladimirovich), Russia; DOB 16 May 1970; nationality Russia; Gender Male; Tax ID No. 772975847073 (Russia) (individual) [RUSSIA-EO14024] (Linked To: JOINT STOCK COMPANY THE 224TH FLIGHT UNIT STATE AIRLINES).

Designated pursuant to section 1(a)(iii)(C) of Executive Order 14024 of April 15, 2021, “Blocking Property With Respect to Specified Harmful Foreign Activities of the Government of the Russian Federation,” (E.O. 14024) for being or having been a leader, official, senior executive officer, or member of the board of directors of JOINT STOCK COMPANY THE 224TH FLIGHT UNIT STATE AIRLINES, an entity whose property and interests in property are blocked pursuant to this order.

Entities

1. ASHULUK FIRING RANGE (a.k.a. ASHULUK TEST RANGE), Astrakhan Oblast, Russia; Organization Type: Defense activities [RUSSIA-EO14024].

Designated pursuant to section 1(a)(i) of E.O. 14024 for operating or having operated in the defense and related materiel sector of the Russian Federation economy.

2. VLADIMIROVKA ADVANCED WEAPONS AND RESEARCH COMPLEX (a.k.a. VAWARC), Astrakhan Oblast, Russia; Organization Type: Defense activities [RUSSIA-EO14024].

Designated pursuant to section 1(a)(i) of E.O. 14024 for operating or having operated in the defense and related materiel sector of the Russian Federation economy.

Aircraft

1. RF-86898; Aircraft Manufacture Date 28 Jan 1982; Aircraft Mode S Transponder Code 155372; Aircraft Model IL-76; Aircraft Manufacturer's Serial Number (MSN) 23435028; Aircraft Tail Number RF-86898 (aircraft) [RUSSIA-EO14024] (Linked To: COMMAND OF THE MILITARY TRANSPORT AVIATION).

Identified as property in which COMMAND OF THE MILITARY TRANSPORT AVIATION, an entity whose property and interests in property are blocked pursuant to E.O. 14024, has an interest.

2. RF-78757; Aircraft Manufacture Date 27 Apr 1988; Aircraft Mode S Transponder Code 1533A5; Aircraft Model IL-76MD; Aircraft Manufacturer's Serial Number (MSN) 83484547; Aircraft Tail Number RF-78757 (aircraft) [RUSSIA-EO14024] (Linked To: COMMAND OF THE MILITARY TRANSPORT AVIATION).

Identified as property in which COMMAND OF THE MILITARY TRANSPORT AVIATION, an entity whose property and interests in property are blocked pursuant to E.O. 14024, has an interest.

3. RF-82011; Aircraft Manufacture Date 31 Dec 1986; Aircraft Mode S Transponder Code 15405B; Aircraft Model AN-124; Aircraft Manufacturer's Serial Number (MSN) 9773054616023; Aircraft Tail Number RF-82011 (aircraft) [RUSSIA-EO14024] (Linked To: COMMAND OF THE MILITARY TRANSPORT AVIATION).

Identified as property in which COMMAND OF THE MILITARY TRANSPORT AVIATION, an entity whose property and interests in property are blocked pursuant to E.O. 14024, has an interest.

On January 11, 2024, based on a decision by the Department of State, in consultation with other departments, as appropriate, OFAC updated the entry on the SDN List for the following person, whose property and interests in property subject to U.S. jurisdiction continue to be blocked under the relevant sanctions authority listed below.

1. RF-82041; Aircraft Manufacture Date 08 Feb 1991; Aircraft Model AN-124; Aircraft Manufacturer's Serial Number (MSN) 9773054055089; Aircraft Tail Number RF-82041 (aircraft) [RUSSIA-EO14024] (Linked To: JOINT STOCK COMPANY THE 224TH FLIGHT UNIT STATE AIRLINES).

-to-

RF-82041; Aircraft Manufacture Date 08 Feb 1991; Aircraft Mode S Transponder Code 154079; Aircraft Model AN-124; Aircraft Manufacturer's Serial Number (MSN) 9773054055089; Aircraft Tail Number RF-82041 (aircraft) [RUSSIA-EO14024] (Linked To: COMMAND OF THE MILITARY TRANSPORT AVIATION).

Identified as property in which COMMAND OF THE MILITARY TRANSPORT AVIATION, an entity whose property and interests in property are blocked pursuant to E.O. 14024, has an interest.

2. JOINT STOCK COMPANY THE 224TH FLIGHT UNIT STATE AIRLINES (a.k.a. 224TH FLIGHT UNIT STATE AIRLINES; a.k.a. JSC THE 224TH FLIGHT UNIT STATE AIRLINES; a.k.a. LYOTNY OTRYAD 224; a.k.a. OJSC GOSUDARSTVENNAYA AVIAKOMPANIYA 224 LETNY OTRYAD; a.k.a. TTF AIR HEAVY LIFTING; a.k.a. “224 FU JSC”; a.k.a. “224TH FLIGHT UNIT”; a.k.a. “OAO 224 LO”), 10, Matrosskaya Tishina, B-14, POB-471, Moscow 107014, Russia; Organization Established Date 16 Oct 1971; Tax ID No. 7718763393 (Russia); Registration Number 1097746281160 (Russia) [RUSSIA-EO14024] (Linked To: PRIVATE MILITARY COMPANY ‘WAGNER’).

-to-

Designated pursuant to section 1(a)(vii) of E.O. 14024 for being owned or controlled by, or having acted or purported to act for or on behalf of, directly or indirectly, the Government of the Russian Federation.

Notice of Department of State Actions

On February 23, 2024, the Department of State, in consultation with other departments, as appropriate, determined that the property and interests in property subject to U.S. jurisdiction of the following persons are blocked under the relevant sanctions authority listed below.

Individuals

1. PINIGIN, Pavel Ivanovich, Belarus; DOB 23 Aug 1962; POB Baranovichi, Belarus; nationality Belarus; Gender Male; Secondary sanctions risk: this person is designated for operating or having operated in a sector of the Russian Federation economy determined to support Russia's military-industrial base pursuant to section 11 of Executive Order 14024, as amended by Executive Order 14114. (individual) [RUSSIA-EO14024].

Designated pursuant to section 1(a)(i) of E.O. 14024 for operating or having operated in the defense and related materiel sector of the Russian Federation economy.

2. COPEICHIN, Valerii (a.k.a. COPCIN, Valari), Plot 115, Nantale Road, Bukoto, P.O. Box 2203, Kampala, Uganda; DOB 05 Jul 1961; nationality Moldova; Gender Male; Secondary sanctions risk: this person is designated for operating or having operated in a sector of the Russian Federation economy determined to support Russia's military-industrial base pursuant to section 11 of Executive Order 14024, as amended by Executive Order 14114.; Passport AB1893585 (Moldova) expires 08 Jun 2032; alt. Passport AB0376112 (Moldova) expires 02 Oct 2025; Identification Number 265417770002 (United Kingdom) (individual) [RUSSIA-EO14024].

Designated pursuant to section 1(a)(i) of E.O. 14024 for operating or having operated in the defense and related materiel sector of the Russian Federation economy.

3. PIKALOV, Konstantin Alexandrovich (a.k.a. MAZAEV, Konstantin; a.k.a. PIKALOV, Konstantin Aleksandrovich; a.k.a. “MAZAI”; a.k.a. “MAZAY”), Russia; DOB 23 Jul 1968; nationality Russia; Gender Male; Secondary sanctions risk: this person is designated for operating or having operated in a sector of the Russian Federation economy determined to support Russia's military-industrial base pursuant to section 11 of Executive Order 14024, as amended by Executive Order 14114.; Tax ID No. 781491227404 (Russia) (individual) [RUSSIA-EO14024].

Designated pursuant to section 1(a)(i) of E.O. 14024 for operating or having operated in the defense and related materiel sector of the Russian Federation economy.

4. TENSIN, Alexey Vasilyevich (a.k.a. TENSIN, Aleksei), Russia; DOB 28 Nov 1971; nationality Russia; Gender Male; Secondary sanctions risk: this person is designated for operating or having operated in a sector of the Russian Federation economy determined to support Russia's military-industrial base pursuant to section 11 of Executive Order 14024, as amended by Executive Order 14114.; Tax ID No. 183200864631 (Russia) (individual) [RUSSIA-EO14024].

Designated pursuant to section 1(a)(i) of E.O. 14024 for operating or having operated in the defense and related materiel sector of the Russian Federation economy.

5. PORKHACHEV, Nikolay Vladimirovich (a.k.a. PORKHACHEV, Nikolai Vladimirovich), Russia; DOB 27 Sep 1979; POB Novovyatsk, Kirov region, Russia; nationality Russia; Gender Male; Secondary sanctions risk: this person is designated for operating or having operated in a sector of the Russian Federation economy determined to support Russia's military-industrial base pursuant to section 11 of Executive Order 14024, as amended by Executive Order 14114.; Tax ID No. 770902376809 (Russia) (individual) [RUSSIA-EO14024].

Designated pursuant to section 1(a)(i) of E.O. 14024 for operating or having operated in the defense and related materiel sector of the Russian Federation economy.

6. NABOKOV, Yuri Alexandrovich (a.k.a. NABOKOV, Iurii Aleksandrovich; a.k.a. NABOKOV, Yury), Russia; DOB 01 Jan 1981; POB Donetsk, Ukraine; nationality Russia; Gender Male; Secondary sanctions risk: this person is designated for operating or having operated in a sector of the Russian Federation economy determined to support Russia's military-industrial base pursuant to section 11 of Executive Order 14024, as amended by Executive Order 14114.; Tax ID No. 780211914500 (Russia) (individual) [RUSSIA-EO14024].

Designated pursuant to section 1(a)(i) of E.O. 14024 for operating or having operated in the defense and related materiel sector of the Russian Federation economy.

7. KUDRYAVTSEV, Gennady Ivanovich (a.k.a. KUDRIAVTSEV, Gennadii Ivanovich), Russia; DOB 20 Aug 1947; POB Dalian, China; nationality Russia; Gender Male; Secondary sanctions risk: this person is designated for operating or having operated in a sector of the Russian Federation economy determined to support Russia's military-industrial base pursuant to section 11 of Executive Order 14024, as amended by Executive Order 14114.; Tax ID No. 183303235868 (Russia) (individual) [RUSSIA-EO14024].

Designated pursuant to section 1(a)(i) of E.O. 14024 for operating or having operated in the defense and related materiel sector of the Russian Federation economy.

8. DRONOV, Evgenii Anatolevich, Russia; DOB 20 Oct 1947; POB Tula, Russia; nationality Russia; Gender Male; Secondary sanctions risk: this person is designated for operating or having operated in a sector of the Russian Federation economy determined to support Russia's military-industrial base pursuant to section 11 of Executive Order 14024, as amended by Executive Order 14114.; Tax ID No. 710600768047 (Russia) (individual) [RUSSIA-EO14024].

Designated pursuant to section 1(a)(i) of E.O. 14024 for operating or having operated in the defense and related materiel sector of the Russian Federation economy.

9. SYCHUGOV, Aleksandr Viacheslavovich (a.k.a. SYCHUGOV, Aleksandr Vyacheslavovich), Russia; DOB 29 Sep 1962; nationality Russia; Gender Male; Secondary sanctions risk: this person is designated for operating or having operated in a sector of the Russian Federation economy determined to support Russia's military-industrial base pursuant to section 11 of Executive Order 14024, as amended by Executive Order 14114.; Tax ID No. 330501738533 (Russia) (individual) [RUSSIA-EO14024].

Designated pursuant to section 1(a)(i) of E.O. 14024 for operating or having operated in the defense and related materiel sector of the Russian Federation economy.

10. TROSHEV, Andrej Nikolaevich (a.k.a. TROSHEV, Andrei Nikolaevich; a.k.a. “Gray Hair”; a.k.a. “Sedoi”), Russia; DOB 05 Apr 1962; alt. DOB 05 Apr 1953; POB St. Petersburg, Russia; nationality Russia; Gender Male; Tax ID No. 781417567443 (Russia) (individual) [RUSSIA-EO14024].

Designated pursuant to section 1(a)(ii)(F) of E.O. 14024 for being responsible for or complicit in, or having directly or indirectly engaged or attempted to engage in, activities that undermine the peace, security, political stability, or territorial integrity of the United States, its allies, or its partners, for or on behalf of, or for the benefit of, directly or indirectly, the Government of the Russian Federation.

11. ELIZAREV, Anton Olegovich (a.k.a. YELIZAREV, Anton Olegovich; a.k.a. “Lotus”), 66 Novorossiysk, Apt 48, Novorossiysk, Russia; DOB 01 May 1981; nationality Russia; Gender Male; Passport 6103869621 (Russia); Tax ID No. 23151072563 (Russia) (individual) [RUSSIA-EO14024].

Designated pursuant to section 1(a)(ii)(F) of E.O. 14024 for being responsible for or complicit in, or having directly or indirectly engaged or attempted to engage in, activities that undermine the peace, security, political stability, or territorial integrity of the United States, its allies, or its partners, for or on behalf of, or for the benefit of, directly or indirectly, the Government of the Russian Federation.

12. ORLOV, Stanislav Alexandrovich (a.k.a. “Spaniard”), 4 Fomichevoi Street, Apartment 3, Moscow 125481, Russia; DOB 21 Feb 1981; POB Moscow, Russia; nationality Russia; Gender Male; Passport 4507686257 (Russia); National ID No. 11308319818 (Russia); Tax ID No. 773370193596 (Russia) (individual) [RUSSIA-EO14024].

Designated pursuant to section 1(a)(ii)(F) of E.O. 14024 for being responsible for or complicit in, or having directly or indirectly engaged or attempted to engage in, activities that undermine the peace, security, political stability, or territorial integrity of the United States, its allies, or its partners, for or on behalf of, or for the benefit of, directly or indirectly, the Government of the Russian Federation.

13. TURKANOV, Mikhail Viktorovich (a.k.a. “Pitbull”), Russia; DOB 26 Dec 1987; POB St. Petersburg, Russia; nationality Russia; Gender Male (individual) [RUSSIA-EO14024].

Designated pursuant to section 1(a)(ii)(F) of E.O. 14024 for being responsible for or complicit in, or having directly or indirectly engaged or attempted to engage in, activities that undermine the peace, security, political stability, or territorial integrity of the United States, its allies, or its partners, for or on behalf of, or for the benefit of, directly or indirectly, the Government of the Russian Federation.

Entities

1. DUNAY PROBABLE NAVAL MISSILE FACILITY, 42-56N 132-20E, Promyslovka Peninsula, Russia; Secondary sanctions risk: this person is designated for operating or having operated in a sector of the Russian Federation economy determined to support Russia's military-industrial base pursuant to section 11 of Executive Order 14024, as amended by Executive Order 14114.; Organization Type: Defense activities [RUSSIA-EO14024].

Designated pursuant to section 1(a)(i) of E.O. 14024 for operating or having operated in the defense and related materiel sector of the Russian Federation economy.

2. CENTRAL RESEARCH RADIO ENGINEERING INSTITUTE NAMED AFTER ACADEMICIAN A I BERG (a.k.a. AKTSIONERNOE OBSHCHESTVO TSENTRALNYI NAUCHNO ISSLEDOVATELSKII RADIOTEKHNICHESKII INSTITUIMENI AKADEMIKA A I BERGA; a.k.a. AO TSNIRTI IM AKADEMIKA A I BERGA; a.k.a. JOINT STOCK COMPANY TSNIRTI NAMED AFTER ACADEMICIAN A I BERG; a.k.a. “108 INSTITUTE”), 20 Nova Basmanna Street, Building 9, Moscow 107078, Russia; Secondary sanctions risk: this person is designated for operating or having operated in a sector of the Russian Federation economy determined to support Russia's military-industrial base pursuant to section 11 of Executive Order 14024, as amended by Executive Order 14114.; Tax ID No. 9701039940 (Russia); Registration Number 1167746458648 (Russia) [RUSSIA-EO14024].

Designated pursuant to section 1(a)(i) of E.O. 14024 for operating or having operated in the defense and related materiel sector of the Russian Federation economy.

3. JOINT STOCK COMPANY SCIENTIFIC RESEARCH INSTITUTE EKRAN (a.k.a. AKTSIONERNOE OBSHCHESTVO NAUCHNO ISSLEDOVATELSKII INSTITUT EKRAN; a.k.a. AO NII EKRAN), 24 Kirova Ave, Samara 443022, Russia; Secondary sanctions risk: this person is designated for operating or having operated in a sector of the Russian Federation economy determined to support Russia's military-industrial base pursuant to section 11 of Executive Order 14024, as amended by Executive Order 14114.; Tax ID No. 6319169796 (Russia); Registration Number 1136319002731 (Russia) [RUSSIA-EO14024].

Designated pursuant to section 1(a)(i) of E.O. 14024 for operating or having operated in the defense and related materiel sector of the Russian Federation economy.

4. PRO HELI INTERNATIONAL SERVICES LIMITED (a.k.a. PROHELI INTERNATIONAL SERVICES LTD), 3rd Floor, Unicalo House, Archer Road, Kololo, P.O. Box 34855, Kampala, Uganda; Secondary sanctions risk: this person is designated for operating or having operated in a sector of the Russian Federation economy determined to support Russia's military-industrial base pursuant to section 11 of Executive Order 14024, as amended by Executive Order 14114.; Organization Established Date 04 Jul 2016; Registration Number 80010001240699 (Uganda) (Entity) [RUSSIA-EO14024].

Designated pursuant to section 1(a)(i) of E.O. 14024 for operating or having operated in the defense and related materiel sector of the Russian Federation economy.

5. OBSHCHESTVO S OGRANICHENNOI OTVETSTVENNOSTIU VOENNO OKHRANNAIA KOMPANIIA KONVOI (a.k.a. OOO VOK KONVOI; a.k.a. PMC CONVOY; a.k.a. PRIVATE MILITARY COMPANY CONVOY), 5a Novocherkassky Ave., letter a, office/room 1-N/35, St. Petersburg 195112, Russia; Secondary sanctions risk: this person is designated for operating or having operated in a sector of the Russian Federation economy determined to support Russia's military-industrial base pursuant to section 11 of Executive Order 14024, as amended by Executive Order 14114.; Tax ID No. 4712026246 (Russia); Registration Number 1154712000024 (Russia) [RUSSIA-EO14024].

Designated pursuant to section 1(a)(i) of E.O. 14024 for operating or having operated in the defense and related materiel sector of the Russian Federation economy.

6. AKTSIONERNOE OBSHCHESTVO KONSALT (a.k.a. AKTSIONERNOE OBSHCHESTVO CHVK VAGNER TSENTR; a.k.a. JOINT STOCK COMPANY PMC WAGNER CENTER), 15 Zolnaya St, Building 1, Room. 1-N, Ch. P. 194, Office 206, St. Petersburg 193318, Russia; Secondary sanctions risk: this person is designated for operating or having operated in a sector of the Russian Federation economy determined to support Russia's military-industrial base pursuant to section 11 of Executive Order 14024, as amended by Executive Order 14114.; Tax ID No. 7811783517 (Russia); Registration Number 1227800167242 (Russia) [RUSSIA-EO14024].

Designated pursuant to section 1(a)(i) of E.O. 14024 for operating or having operated in the defense and related materiel sector of the Russian Federation economy.

7. JOINT STOCK COMPANY NOVOSIBIRSK MECHANICAL PLANT ISKRA (a.k.a. AKTSIONERNOE OBSHCHESTVO NOVOSIBIRSKII MEKHANICHESKII ZAVOD ISKRA; a.k.a. AO NMZ ISKRA), Chekalina St., Building 8, Novosibirsk 630900, Russia; Secondary sanctions risk: this person is designated for operating or having operated in a sector of the Russian Federation economy determined to support Russia's military-industrial base pursuant to section 11 of Executive Order 14024, as amended by Executive Order 14114.; Tax ID No. 5410039642 (Russia); Registration Number 1115476008890 (Russia) [RUSSIA-EO14024].

Designated pursuant to section 1(a)(i) of E.O. 14024 for operating or having operated in the defense and related materiel sector of the Russian Federation economy.

8. OTKRYTOE AKTSIONERNOE OBSHCHESTVO NOVO-VYATKA (a.k.a. NOVO VYATKA OPEN JOINT STOCK COMPANY), d. 51 korp. 2 ul. Sovetskaya, Kirov, Kirovskaya obl. 610008, Russia; Executive Order 13662 Directive Determination—Subject to Directive 3; Secondary sanctions risk: Ukraine-/Russia-Related Sanctions Regulations, 31 CFR 589.201 and/or 589.209; alt. Secondary sanctions risk: this person is designated for operating or having operated in a sector of the Russian Federation economy determined to support Russia's military-industrial base pursuant to section 11 of Executive Order 14024, as amended by Executive Order 14114.; Tax ID No. 4345029946 (Russia); Registration Number 1034316578680 (Russia); For more information on directives, please visit the following link: http://www.treasury.gov/resource-center/sanctions/Programs/Pages/ukraine.aspx#directives [UKRAINE-EO13662] [RUSSIA-EO14024] (Linked To: STATE CORPORATION ROSTEC).

Designated pursuant to section 1(a)(i) of E.O. 14024 for operating or having operated in the defense and related materiel sector of the Russian Federation economy.

9. JOINT STOCK COMPANY SCIENTIFIC AND PRODUCTION ASSOCIATION PRIBOR NAMED AFTER S S GOLEMBIOVSKY (a.k.a. AKTSIONERNOE OBSHCHESTVO NAUCHNO PROIZVODSTVENNOE OBYEDINENIE PRIBOR IMENI S S GOLEMBIOVSKOGO; a.k.a. AO NPO PRIBOR IMENI S S GOLEMBIOVSKOGO), 1 Kirovgradskaya St., Moscow 117587, Russia; 2 ul. Novorossiiskaia, Chelyabinsk, Russia; 3 ul. Sovnarkhoznaia, Noginsk 142400, Russia; 1/21 ul. 1-ia Krasnoarmeiskaia, Saint Petersburg, Russia; Secondary sanctions risk: this person is designated for operating or having operated in a sector of the Russian Federation economy determined to support Russia's military-industrial base pursuant to section 11 of Executive Order 14024, as amended by Executive Order 14114.; Tax ID No. 7726700943 (Russia); Registration Number 1127746541427 (Russia) [RUSSIA-EO14024].

Designated pursuant to section 1(a)(i) of E.O. 14024 for operating or having operated in the defense and related materiel sector of the Russian Federation economy.

10. JOINT STOCK COMPANY ARZAMAS MACHINE BUILDING PLANT (a.k.a. JOINT STOCK COMPANY ARZAMAS MACHINERY PLANT; a.k.a. PUBLICHNOE AKTSIONERNOE OBSCHESTVO ARZAMASSKIY MASHINOSTROITELNYI ZAVOD; a.k.a. “AO AMZ”), 2 May 9 St., Arzamas 607220, Russia; Secondary sanctions risk: this person is designated for operating or having operated in a sector of the Russian Federation economy determined to support Russia's military-industrial base pursuant to section 11 of Executive Order 14024, as amended by Executive Order 14114.; Tax ID No. 5243001767 (Russia); Registration Number 1025201335730 (Russia) [RUSSIA-EO14024].

Designated pursuant to section 1(a)(i) of E.O. 14024 for operating or having operated in the defense and related materiel sector of the Russian Federation economy.

Designated pursuant to section 1(a)(i) of E.O. 14024 for operating or having operated in the defense and related materiel sector of the Russian Federation economy.

12. JSC SCIENTIFIC PRODUCTION ASSOCIATION EXPERIMENTAL DESIGN BUREAU NAMED AFTER M SIMONOV (a.k.a. AO NPO OKB IM MP SIMONOVA; a.k.a. JOINT STOCK COMPANY EXPERIMENTAL DESICH BUREU COKOL; a.k.a. OKB SIMONOV; a.k.a. OKB SOKOL; a.k.a. SIMONOV DESIGN BUREAU; a.k.a. SOKOL DESIGN BUREAU), 2A ul Akademika Pavlova St, Kazan 420036, Russia; Secondary sanctions risk: this person is designated for operating or having operated in a sector of the Russian Federation economy determined to support Russia's military-industrial base pursuant to section 11 of Executive Order 14024, as amended by Executive Order 14114.; Tax ID No. 1661007166 (Russia); Registration Number 1021603886622 (Russia) [RUSSIA-EO14024].

Designated pursuant to section 1(a)(i) of E.O. 14024 for operating or having operated in the defense and related materiel sector of the Russian Federation economy.

13. JSC IZHEVSK MOTOR PLANT AKSION HOLDING (a.k.a. AO IZHEVSKII MOTOZAVOD AKSION KHOLDING; a.k.a. IZHEVSK MOTOZAVOD AXION HOLDING JSC), 90 Maksima Gorkogo Street, Izhevsk 426008, Russia; Per. Furmannyi D. 12 Str 1, Moscow 105062, Russia; Secondary sanctions risk: this person is designated for operating or having operated in a sector of the Russian Federation economy determined to support Russia's military-industrial base pursuant to section 11 of Executive Order 14024, as amended by Executive Order 14114.; Tax ID No. 1826000616 (Russia); Registration Number 1021801140833 (Russia) [RUSSIA-EO14024].

Designated pursuant to section 1(a)(i) of E.O. 14024 for operating or having operated in the defense and related materiel sector of the Russian Federation economy.

14. JOINT STOCK COMPANY VERKHNYAYA SALDA CHEMICAL CONTAINER PLANT (a.k.a. AKTSIONERNOE OBSHCHESTVO VERKHNESALDINSKII ZAVOD KHIMICHESKIKH EMKOSTEI; a.k.a. “AO VZKHE”), 105 Molodezhny Poselok Street, Verkhnyaya Salda 624761, Russia; Secondary sanctions risk: this person is designated for operating or having operated in a sector of the Russian Federation economy determined to support Russia's military-industrial base pursuant to section 11 of Executive Order 14024, as amended by Executive Order 14114.; Tax ID No. 6623136353 (Russia); Registration Number 1206600070918 (Russia) [RUSSIA-EO14024].

Designated pursuant to section 1(a)(i) of E.O. 14024 for operating or having operated in the defense and related materiel sector of the Russian Federation economy.

15. FEDERAL STATE ENTERPRISE SCIENCE AND TECHNOLOGY ASSOCIATION KAZAN PLANT OF PRECISION ENGINEERING (a.k.a. FKP NPO KZTM; a.k.a. NAUCHNO PROIZVODSTVENNOE OBYEDINENIE KAZANSKII ZAVOD TOCHNOGO MASHINOSTROENIYA), 71 Mazita Gafuri Street, Kazan 420108, Russia; 2 Pionerskaya Street, Chapaevsk 446100, Russia; Secondary sanctions risk: this person is designated for operating or having operated in a sector of the Russian Federation economy determined to support Russia's military-industrial base pursuant to section 11 of Executive Order 14024, as amended by Executive Order 14114.; Tax ID No. 1654001773 (Russia); Registration Number 1021602829115 (Russia) [RUSSIA-EO14024].

Designated pursuant to section 1(a)(i) of E.O. 14024 for operating or having operated in the defense and related materiel sector of the Russian Federation economy.

16. JOINT STOCK COMPANY SPECIAL DESIGN BUREAU OF INSTRUMENT MAKING AND AUTOMATION (a.k.a. OPEN JOINT STOCK COMPANY SPECIAL DESIGN BUREAU OF INSTRUMENT ENGINEERING AND AUTOMATION; a.k.a. OTKRYTOE AKTSIONERNOE OBSHCHESTVO SPETSIALNOE KONSTRUKTORSKOE BIURO PRIBOROSTROENIIA I AVTOMATIKI; a.k.a. “OAO SKB PA”), 55 Krupskoi Street, Kovrov 601903, Russia; Secondary sanctions risk: this person is designated for operating or having operated in a sector of the Russian Federation economy determined to support Russia's military-industrial base pursuant to section 11 of Executive Order 14024, as amended by Executive Order 14114.; Tax ID No. 3305016642 (Russia); Registration Number 1023301951045 (Russia) [RUSSIA-EO14024].

Designated pursuant to section 1(a)(i) of E.O. 14024 for operating or having operated in the defense and related materiel sector of the Russian Federation economy.

17. JOINT STOCK COMPANY ASTEIS (a.k.a. AKTSIONERNOE OBSHCHESTVO ASTEIS; a.k.a. JSC ASTEYS), 28 Proezd Rezervnyi, Naberezhnye Chelny 423800, Russia; Secondary sanctions risk: this person is designated for operating or having operated in a sector of the Russian Federation economy determined to support Russia's military-industrial base pursuant to section 11 of Executive Order 14024, as amended by Executive Order 14114.; Tax ID No. 1650153253 (Russia); Registration Number 1071650002874 (Russia) [RUSSIA-EO14024].

Designated pursuant to section 1(a)(i) of E.O. 14024 for operating or having operated in the defense and related materiel sector of the Russian Federation economy.

18. JOINT STOCK COMPANY TULA MACHINE BUILDING PLANT (a.k.a. AKTSIONERNOE OBSHCHESTVO AKTSIONERNAIA KOMPANIIA TULAMASHZAVOD; a.k.a. AO TULSKIY MASHINOSTROITELNIY ZAVOD; a.k.a. JOINT STOCK COMPANY TULAMASHZAVOD; a.k.a. TULAMASHZAVOD PRODUCTION ASSOCIATION), 2 Mosina St., Tula 300002, Russia; Secondary sanctions risk: this person is designated for operating or having operated in a sector of the Russian Federation economy determined to support Russia's military-industrial base pursuant to section 11 of Executive Order 14024, as amended by Executive Order 14114.; Tax ID No. 7106002836 (Russia); Registration Number 1027100507114 (Russia) [RUSSIA-EO14024].

Designated pursuant to section 1(a)(i) of E.O. 14024 for operating or having operated in the defense and related materiel sector of the Russian Federation economy.

19. PUBLIC JOINT STOCK COMPANY IMPERIAL TULA ARMS PLANT (a.k.a. PUBLIC JOINT STOCK COMPANY IMPERATORSKY TULSKY ORUZHEINY ZAVOD; a.k.a. PUBLICHNOE AKTSIONERNOE OBSCHESTVO IMPERATORSKIY TULSKIY ORUZHEINIY ZAVOD), 1A, Sovetskaya St., Tula 300002, Russia; Secondary sanctions risk: this person is designated for operating or having operated in a sector of the Russian Federation economy determined to support Russia's military-industrial base pursuant to section 11 of Executive Order 14024, as amended by Executive Order 14114.; Tax ID No. 7107003303 (Russia); Registration Number 1027100507147 (Russia) [RUSSIA-EO14024].

Designated pursuant to section 1(a)(i) of E.O. 14024 for operating or having operated in the defense and related materiel sector of the Russian Federation economy.

20. GUN MAKING COMPANY LEVSHA T LLC (a.k.a. LLC WEAPON FIRM LEVSHA T; a.k.a. OBSHCHESTVO S OGRANICHENNOI OTVETSTVENNOSTIU ORUZHEINAIA FIRMA LEVSHA T), 1A Sovetskaya St, Building 95-037, Pom/floor 11/2 lit. e3, Tula 300041, Russia; Secondary sanctions risk: this person is designated for operating or having operated in a sector of the Russian Federation economy determined to support Russia's military-industrial base pursuant to section 11 of Executive Order 14024, as amended by Executive Order 14114.; Tax ID No. 7107049851 (Russia); Registration Number 1027100978300 (Russia) [RUSSIA-EO14024].

Designated pursuant to section 1(a)(i) of E.O. 14024 for operating or having operated in the defense and related materiel sector of the Russian Federation economy.

21. JOINT STOCK COMPANY SPECIAL DESIGN BUREAU OF TRANSPORT MECHANICAL ENGINEERING (a.k.a. AKTSIONERNOE OBSHCHESTVO SPETSIALNOE KONSTRUKTORSKOE BIURO TRANSPORTNOGOMASHINOSTROENIIA; a.k.a. AO SPETSMASH; a.k.a. SPECMASH KB), 47 Stachek Ave., Korp 2, Saint Petersburg 198097, Russia; Secondary sanctions risk: this person is designated for operating or having operated in a sector of the Russian Federation economy determined to support Russia's military-industrial base pursuant to section 11 of Executive Order 14024, as amended by Executive Order 14114.; Tax ID No. 7805019624 (Russia); Registration Number 1027802749061 (Russia) [RUSSIA-EO14024].

Designated pursuant to section 1(a)(i) of E.O. 14024 for operating or having operated in the defense and related materiel sector of the Russian Federation economy.

22. LIMITED LIABILITY COMPANY TRIMIX (a.k.a. OBSHCHESTVO S OGRANICHENNOI OTVETSTVENNOSTIU 3MKH; a.k.a. “3MX”), 16, litera A, Ul. Khoshimina, Pomeshch. 2-n of. 3.1.17, St. Petersburg 194358, Russia; Secondary sanctions risk: this person is designated for operating or having operated in a sector of the Russian Federation economy determined to support Russia's military-industrial base pursuant to section 11 of Executive Order 14024, as amended by Executive Order 14114.; Tax ID No. 7802942873 (Russia); Registration Number 1237800084235 (Russia) [RUSSIA-EO14024].

Designated pursuant to section 1(a)(i) of E.O. 14024 for operating or having operated in the defense and related materiel sector of the Russian Federation economy.

23. JOINT STOCK COMPANY VOSKRESENSKY AGGREGATION FACTORY (a.k.a. VOSKRESENSKIY AGGREGATE PLANT; a.k.a. “JSC VAF”), 6 Ul. Tsiolkovskogo, Beloozerskii 140250, Russia; Secondary sanctions risk: this person is designated for operating or having operated in a sector of the Russian Federation economy determined to support Russia's military-industrial base pursuant to section 11 of Executive Order 14024, as amended by Executive Order 14114.; Tax ID No. 5005073080 (Russia); Registration Number 1235000011058 (Russia) [RUSSIA-EO14024].

Designated pursuant to section 1(a)(i) of E.O. 14024 for operating or having operated in the defense and related materiel sector of the Russian Federation economy.

24. JOINT STOCK COMPANY TECHNOLOGICAL ENTERPRISE PERM PLANT OF METAL WORKING CENTERS (a.k.a. AKTSIONERNOE OBSHCHESTVO SOVMESTNOE TEKHNOLOGICHESKOE PREDPRIYATIE PERMSKII ZAVOD METALLOOBRABATYVAYUSHCHIKH TSENTROV; a.k.a. PERM FACTORY METAL CENTERS STP STOCK COMPANY; a.k.a. “AO STP PZMTS”; a.k.a. “PZMC”), 155 Promyshlennaya Street, Perm 614065, Russia; Secondary sanctions risk: this person is designated for operating or having operated in a sector of the Russian Federation economy determined to support Russia's military-industrial base pursuant to section 11 of Executive Order 14024, as amended by Executive Order 14114.; Tax ID No. 5905951227 (Russia); Registration Number 1145958055870 (Russia) [RUSSIA-EO14024].

Designated pursuant to section 1(a)(i) of E.O. 14024 for operating or having operated in the manufacturing sector of the Russian Federation economy.

25. JOINT STOCK COMPANY MEKHANIKA, 16 Elektrodnyi proezd, Moscow 111123, Russia; Secondary sanctions risk: this person is designated for operating or having operated in a sector of the Russian Federation economy determined to support Russia's military-industrial base pursuant to section 11 of Executive Order 14024, as amended by Executive Order 14114.; Tax ID No. 7743627436 (Russia); Registration Number 1077746097538 (Russia) [RUSSIA-EO14024].

Designated pursuant to section 1(a)(i) of E.O. 14024 for operating or having operated in the manufacturing sector of the Russian Federation economy.

26. JOINT STOCK COMPANY KOVROV ELECTROMECHANICAL PLANT (a.k.a. AKTSIONERNOE OBSHCHESTVO KOVROVSKII ELEKTROMEKHANICHESKII ZAVOD; a.k.a. “AO KEMZ”), 55 Krupskoi Street, Kovrov 601919, Russia; Secondary sanctions risk: this person is designated for operating or having operated in a sector of the Russian Federation economy determined to support Russia's military-industrial base pursuant to section 11 of Executive Order 14024, as amended by Executive Order 14114.; Tax ID No. 3305004421 (Russia); Registration Number 1023301951177 (Russia) [RUSSIA-EO14024].

Designated pursuant to section 1(a)(i) of E.O. 14024 for operating or having operated in the manufacturing sector of the Russian Federation economy.

27. AKTSIONERNOE OBSHCHESTVO TOZ METIZ, Ul. Sovetskaya 1A, pomeshch. 420, Tula 300041, Russia; Secondary sanctions risk: this person is designated for operating or having operated in a sector of the Russian Federation economy determined to support Russia's military-industrial base pursuant to section 11 of Executive Order 14024, as amended by Executive Order 14114.; Tax ID No. 7107107736 (Russia); Registration Number 1157154016360 (Russia) [RUSSIA-EO14024].

Designated pursuant to section 1(a)(i) of E.O. 14024 for operating or having operated in the manufacturing sector of the Russian Federation economy.

28. DALIR LTD (a.k.a. OBSHCHESTVO S OGRANICHENNOI OTVETSTVENNOSTIU DALIR; a.k.a. OOO DALIR), kv 1, ulitsa Admiralteyskaya 54, Astrakhan 414040, Russia; Tax ID No. 3015076287 (Russia); Identification Number IMO 5709371; Registration Number 1063015052396 (Russia) [RUSSIA-EO14024].

Designated pursuant to section 1(a)(i) of E.O. 14024 for operating or having operated in the marine sector of the Russian Federation economy.

29. LADOGA SHIPPING COMPANY LIMITED LIABILITY COMPANY (a.k.a. OBSHCHESTVO S OGRANICHENNOI OTVETSTVENNOSTIU SUDOKHODNAIA KOMPANIIA LADOGA; a.k.a. OOO SK LADOGA), Office 18, ulitsa Kirova 1, Astrakhan 414000, Russia; 3 Gogol St., building 2, letter A, room 55, Astrakhan 414024, Russia; Tax ID No. 3016048892 (Russia); Identification Number IMO 5252029; Registration Number 1063016028877 (Russia) [RUSSIA-EO14024].

Designated pursuant to section 1(a)(i) of E.O. 14024 for operating or having operated in the marine sector of the Russian Federation economy.

Designated pursuant to section 1(a)(i) of E.O. 14024 for operating or having operated in the marine sector of the Russian Federation economy.

31. JOINT STOCK COMPANY RUSATOM ARCTIC, Proezd Kitaigorodskii, 7, Str. 1, Moscow 109012, Russia; Tax ID No. 9705215178 (Russia); Registration Number 1237700926825 (Russia) [RUSSIA-EO14024].

Designated pursuant to section 1(a)(vii) of E.O. 14024 for being owned or controlled by, or having acted or purported to act for or on behalf of, directly or indirectly, the Government of the Russian Federation.

32. INNOVATION HUB LIMITED LIABILITY COMPANY (a.k.a. ROSATOM INNOHUB; a.k.a. “INNOHUB LLC”), Per. Bolshoi Tolmachevskii D. 4, Str. 1, Pomeshch. 4/1, Moscow 119017, Russia; Tax ID No. 9724042820 (Russia); Registration Number 1217700144738 (Russia) [RUSSIA-EO14024].

Designated pursuant to section 1(a)(vii) of E.O. 14024 for being owned or controlled by, or having acted or purported to act for or on behalf of, directly or indirectly, the Government of the Russian Federation.

33. FEDERAL STATE UNITARY ENTERPRISE ALEXANDROV RESEARCH INSTITUTE OF TECHNOLOGY (a.k.a. ALEKSANDROV SCIENTIFIC RESEARCH TECHNOLOGICAL INSTITUTE NITI; a.k.a. FEDERALNOE GOSUDARSTVENNOE UNITARNOE PREDPRIIATIE NAUCHNO ISSLEDOVATELSKII TEKHNOLOGICHESKII INSTITUT IMENI AP ALEKSANDROVA; a.k.a. FGUP NITI IM AP ALEKSANDROVA), Koporskoe Highway, House 72, Sosnovy Bor 188540, Russia; Organization Established Date 1962; Tax ID No. 4714000067 (Russia); Registration Number 1024701759565 (Russia) [RUSSIA-EO14024].

Designated pursuant to section 1(a)(vii) of E.O. 14024 for being owned or controlled by, or having acted or purported to act for or on behalf of, directly or indirectly, the Government of the Russian Federation.

34. SHOOTING CENTER ALTAY SHOOTER LTD (a.k.a. LIMITED LIABILITY COMPANY SHOOTING AND BENCH COMPLEX ALTAYSKY STRELOK; a.k.a. OBSHCHESTVO S OGRANICHENNOI OTVETSTVENNOSTIU STRELKOVO STENDOVYI KOMPLEKS ALTAISKII STRELOK; a.k.a. “LLC CCK EXPERT”; a.k.a. “OOO SSK AS”), Shadrino village, Barnaul 656000, Russia; 28 Ulitsa Kulagina, Barnaul 656012, Russia; Tax ID No. 2224083790 (Russia); Registration Number 1032202181516 (Russia) [RUSSIA-EO14024] (Linked To: JOINT STOCK COMPANY BARNAUL CARTRIDGE PLANT).

Designated pursuant to section 1(a)(vii) of E.O. 14024 for being owned or controlled by, or having acted or purported to act for or on behalf of, directly or indirectly, JOINT STOCK COMPANY BARNAUL CARTRIDGE PLANT, a person whose property and interests in property are blocked pursuant to E.O. 14024.

Vessels

1. ALIREZA 1 (UAYK) General Cargo 1,972GRT Russia flag; Vessel Year of Build 1965; Vessel Registration Identification IMO 6703769 (vessel) [RUSSIA-EO14024] (Linked To: DALIR LTD).

Identified as property in which DALIR LTD, an entity whose property and interests in property are blocked pursuant to E.O. 14024, has an interest.

2. BALTIYSKIY-111 (UDCC) General Cargo 1,926GRT Russia flag; Vessel Year of Build 1980; Vessel Registration Identification IMO 7612448 (vessel) [RUSSIA-EO14024] (Linked To: DALIR LTD).

Identified as property in which DALIR LTD, an entity whose property and interests in property are blocked pursuant to E.O. 14024, has an interest.

3. SKIF-V (UBRK6) General Cargo 2,463GRT Russia flag; Vessel Year of Build 1984; Vessel Registration Identification IMO 8858087 (vessel) [RUSSIA-EO14024] (Linked To: LADOGA SHIPPING COMPANY LIMITED LIABILITY COMPANY).

Identified as property in which LADOGA SHIPPING COMPANY LIMITED LIABILITY COMPANY, an entity whose property and interests in property are blocked pursuant to E.O. 14024, has an interest.

On February 23, 2024, based on a decision by the Department of State, in consultation with other departments, as appropriate, OFAC updated the entry on the SDN List for the following person, whose property and interests in property subject to U.S. jurisdiction continue to be blocked under the relevant sanctions authority listed below.

Designated pursuant to section 1(a)(i) of E.O. 14024 for operating or having operated in the defense and related materiel sector of the Russian Federation economy.

2. FEDERAL STATE UNITARY ENTERPRISE STATE RESEARCH AND PRODUCTION ENTERPRISE BAZALT (a.k.a. FEDERAL STATE UNITARY ENTERPRISE, STATE RESEARCH AND PRODUCTION ENTERPRISE BAZALT; a.k.a. FSUE SRPE BAZALT; a.k.a. STATE RESEARCH AND PRODUCTION ENTERPRISE BAZALT), 32 Velyaminovskaya, Moscow 105318, Russia; website www.bazalt.ru; Email Address moscow@bazalt.ru; Secondary sanctions risk: Ukraine-/Russia-Related Sanctions Regulations, 31 CFR 589.201 and/or 589.209 [UKRAINE-EO13661].

-to-

FEDERAL STATE UNITARY ENTERPRISE STATE RESEARCH AND PRODUCTION ENTERPRISE BAZALT (a.k.a. AO NPO BAZALT; a.k.a. FSUE SRPE BAZALT; a.k.a. JOINT STOCK COMPANY SCIENTIFIC PRODUCTION ASSOCIATION BAZALT), 32 Velyaminovskaya, Moscow 105318, Russia; Secondary sanctions risk: Ukraine-/Russia-Related Sanctions Regulations, 31 CFR 589.201 and/or 589.209; alt. Secondary sanctions risk: this person is designated for operating or having operated in a sector of the Russian Federation economy determined to support Russia's military-industrial base pursuant to section 11 of Executive Order 14024, as amended by Executive Order 14114.; Tax ID No. 7719830028 (Russia); Registration Number 1127747209501 (Russia) [UKRAINE-EO13661] [RUSSIA-EO14024].

Designated pursuant to section 1(a)(i) of E.O. 14024 for operating or having operated in the defense and related materiel sector of the Russian Federation economy.

3. MINISTRY OF DEFENSE AND ARMED FORCES LOGISTICS (a.k.a. GOVERNMENT OF IRAN DEPARTMENT OF DEFENSE; a.k.a. MINISTRY OF DEFENCE & ARMED FORCES LOGISTICS; a.k.a. MINISTRY OF DEFENSE AND SUPPORT FOR ARMED FORCES LOGISTICS; a.k.a. MINISTRY OF DEFENSE ARMED FORCES LOGISTICS; a.k.a. MINISTRY OF DEFENSE FOR ARMED FORCES LOGISTICS; a.k.a. MODAFL; a.k.a. MODSAF; a.k.a. VEZARATE DEFA; a.k.a. VEZARAT-E DEFA VA POSHTYBANI-E NIRU-HAYE MOSALLAH), Ferdowsi Avenue, Sarhang Sakhaei Street, Tehran, Iran; PO Box 11365-8439, Pasdaran Ave., Tehran, Iran; West side of Dabestan Street, Abbas Abad District, Tehran, Iran; Additional Sanctions Information—Subject to Secondary Sanctions [SDGT] [NPWMD] [IFSR] [IRAN-CON-ARMS-E.O.] (Linked To: ISLAMIC REVOLUTIONARY GUARD CORPS (IRGC)-QODS FORCE).

-to-

MINISTRY OF DEFENSE AND ARMED FORCES LOGISTICS (a.k.a. GOVERNMENT OF IRAN DEPARTMENT OF DEFENSE; a.k.a. MINISTRY OF DEFENCE & ARMED FORCES LOGISTICS; a.k.a. MINISTRY OF DEFENSE AND SUPPORT FOR ARMED FORCES LOGISTICS; a.k.a. MINISTRY OF DEFENSE ARMED FORCES LOGISTICS; a.k.a. MINISTRY OF DEFENSE FOR ARMED FORCES LOGISTICS; a.k.a. MODAFL; a.k.a. MODSAF; a.k.a. VEZARATE DEFA; a.k.a. VEZARAT-E DEFA VA POSHTYBANI-E NIRU-HAYE MOSALLAH), Ferdowsi Avenue, Sarhang Sakhaei Street, Tehran, Iran; PO Box 11365-8439, Pasdaran Ave., Tehran, Iran; West side of Dabestan Street, Abbas Abad District, Tehran, Iran; Additional Sanctions Information—Subject to Secondary Sanctions [SDGT] [NPWMD] [IFSR] [IRAN-CON-ARMS-E.O.] [RUSSIA-EO14024] (Linked To: ISLAMIC REVOLUTIONARY GUARD CORPS (IRGC)-QODS FORCE; Linked To: ROSOBORONEKSPORT OAO).

Designated pursuant to section 1(a)(vi)(B) of E.O. 14024 for having materially assisted, sponsored, or provided financial, material, or technological support for, or goods or services to or in support of ROSOBORONEKSPORT OAO, an entity whose property and interests in property are blocked pursuant to E.O. 14024.

Notice of Department of State Actions

On May 1, 2024, the Department of State, in consultation with other departments, determined that the property and interests in property subject to U.S. jurisdiction of the following persons are blocked under the relevant sanctions authority listed below.

Individuals

1. LUKIN, Sergey Anatolyevich (a.k.a. LUKIN, Sergei Anatolevich), Russia; DOB 17 Sep 1983; nationality Russia; Gender Male; Secondary sanctions risk: this person is designated for operating or having operated in a sector of the Russian Federation economy determined to support Russia's military-industrial base pursuant to section 11 of Executive Order 14024, as amended by Executive Order 14114.; Tax ID No. 710606343114 (Russia) (individual) [RUSSIA-EO14024].

Designated pursuant to section 1(a)(i) of E.O. 14024 for operating or having operated in the defense and related materiel sector of the Russian Federation economy.

2. DUBONOSOV, Aleksey Gennadievich (a.k.a. DUBONOSOV, Aleksei Gennadievich), Russia; DOB 31 Dec 1976; nationality Russia; Gender Male; Secondary sanctions risk: this person is designated for operating or having operated in a sector of the Russian Federation economy determined to support Russia's military-industrial base pursuant to section 11 of Executive Order 14024, as amended by Executive Order 14114.; Tax ID No. 344401214508 (Russia) (individual) [RUSSIA-EO14024].

Designated pursuant to section 1(a)(i) of E.O. 14024 for operating or having operated in the defense and related materiel sector of the Russian Federation economy.

3. PITIKOV, Sergey Viktorovich (a.k.a. PITIKOV, Sergei Viktorovich), Russia; DOB 23 Feb 1963; nationality Russia; Gender Male; Secondary sanctions risk: this person is designated for operating or having operated in a sector of the Russian Federation economy determined to support Russia's military-industrial base pursuant to section 11 of Executive Order 14024, as amended by Executive Order 14114.; Tax ID No. 502208215010 (Russia) (individual) [RUSSIA-EO14024].

Designated pursuant to section 1(a)(i) of E.O. 14024 for operating or having operated in the defense and related materiel sector of the Russian Federation economy.

4. KASHIN, Valery Mikhailovich (a.k.a. KASHIN, Valerii Mikhailovich), Russia; DOB 14 Sep 1947; POB Chernivtsi, Ukraine; nationality Russia; Gender Male; Secondary sanctions risk: this person is designated for operating or having operated in a sector of the Russian Federation economy determined to support Russia's military-industrial base pursuant to section 11 of Executive Order 14024, as amended by Executive Order 14114.; Tax ID No. 502207611476 (Russia) (individual) [RUSSIA-EO14024].

Designated pursuant to section 1(a)(i) of E.O. 14024 for operating or having operated in the defense and related materiel sector of the Russian Federation economy.

5. SDOBNOV, Alexey Borisovich (a.k.a. SDOBNOV, Oleksii Borysovych), Russia; DOB 08 May 1983; nationality Russia; Gender Male; Secondary sanctions risk: this person is designated for operating or having operated in a sector of the Russian Federation economy determined to support Russia's military-industrial base pursuant to section 11 of Executive Order 14024, as amended by Executive Order 14114. (individual) [RUSSIA-EO14024].

Designated pursuant to section 1(a)(i) of E.O. 14024 for operating or having operated in the defense and related materiel sector of the Russian Federation economy.

6. YAKOVLEV, Pavel Alexandrovich (a.k.a. IAKOVLEV, Pavel Aleksandrovich), Russia; DOB 27 Jan 1968; POB Yekaterinburg, Russia; nationality Russia; Gender Male; Secondary sanctions risk: this person is designated for operating or having operated in a sector of the Russian Federation economy determined to support Russia's military-industrial base pursuant to section 11 of Executive Order 14024, as amended by Executive Order 14114.; Tax ID No. 741501315015 (Russia) (individual) [RUSSIA-EO14024].

Designated pursuant to section 1(a)(i) of E.O. 14024 for operating or having operated in the defense and related materiel sector of the Russian Federation economy.

7. ROSHCHUPKIN, Vladimir Nikolaevich, Russia; DOB 02 Jun 1963; POB Pershino, Russia; nationality Russia; Gender Male; Secondary sanctions risk: this person is designated for operating or having operated in a sector of the Russian Federation economy determined to support Russia's military-industrial base pursuant to section 11 of Executive Order 14024, as amended by Executive Order 14114.; Tax ID No. 662316649390 (Russia) (individual) [RUSSIA-EO14024].

Designated pursuant to section 1(a)(i) of E.O. 14024 for operating or having operated in the defense and related materiel sector of the Russian Federation economy.

8. VOLOGDIN, Boris Yakovlevich, Russia; DOB 22 Jul 1955; POB Aliya Village, Chita Region, Russia; nationality Russia; Gender Male; Secondary sanctions risk: this person is designated for operating or having operated in a sector of the Russian Federation economy determined to support Russia's military-industrial base pursuant to section 11 of Executive Order 14024, as amended by Executive Order 14114.; Tax ID No. 701700134280 (Russia) (individual) [RUSSIA-EO14024].

Designated pursuant to section 1(a)(i) of E.O. 14024 for operating or having operated in the defense and related materiel sector of the Russian Federation economy.

9. TERLIKOV, Andrey Leonidovich (a.k.a. TERLIKOV, Andrei Leonidovich), Russia; DOB 22 Feb 1962; nationality Russia; Gender Male; Secondary sanctions risk: this person is designated for operating or having operated in a sector of the Russian Federation economy determined to support Russia's military-industrial base pursuant to section 11 of Executive Order 14024, as amended by Executive Order 14114.; Tax ID No. 662317683996 (Russia) (individual) [RUSSIA-EO14024].

Designated pursuant to section 1(a)(i) of E.O. 14024 for operating or having operated in the defense and related materiel sector of the Russian Federation economy.

10. BREDIKHIN, Aleksei Viktorovich (a.k.a. BREDIKHIN, Aleksey; a.k.a. BREDIKHIN, Alexei), Russia; DOB 15 Mar 1984; POB Nizhny Kuranakh, Russia; nationality Russia; Gender Male; Secondary sanctions risk: this person is designated for operating or having operated in a sector of the Russian Federation economy determined to support Russia's military-industrial base pursuant to section 11 of Executive Order 14024, as amended by Executive Order 14114.; Tax ID No. 701740785143 (Russia) (individual) [RUSSIA-EO14024].

Designated pursuant to section 1(a)(i) of E.O. 14024 for operating or having operated in the manufacturing sector of the Russian Federation economy.

Entities

1. SCIENTIFIC RESEARCH INSTITUTE OF APPLIED ACOUSTICS (a.k.a. APPLIED ACOUSTICS RESEARCH INSTITUTE; a.k.a. FEDERAL STATE UNITARY ENTERPRISE NIIPA; a.k.a. FEDERALNOE GOSUDARSTVENNOE UNITARNOE PREDPRIIATIE NAUCHNO ISSLEDOVATELSKII INSTITUT PRIKLADNOI AKUSTIKI; a.k.a. “AARI”; a.k.a. “FGUP NIIPA”; a.k.a. “RIAA”), 9 May St., 7A, Dubna 141981, Russia; 16A Nagatinskaia Ul, Moscow, Russia; Secondary sanctions risk: this person is designated for operating or having operated in a sector of the Russian Federation economy determined to support Russia's military-industrial base pursuant to section 11 of Executive Order 14024, as amended by Executive Order 14114.; Tax ID No. 5010007607 (Russia); Registration Number 1035002202070 (Russia) [RUSSIA-EO14024].

Designated pursuant to section 1(a)(i) of E.O. 14024 for operating or having operated in the defense and related materiel sector of the Russian Federation economy.

Designated pursuant to section 1(a)(i) of E.O. 14024 for operating or having operated in the defense and related materiel sector of the Russian Federation economy.

3. FEDERAL STATE BUDGETARY INSTITUTION 48TH CENTRAL SCIENTIFIC AND RESEARCH INSTITUTE OF THE MINISTRY OF DEFENSE OF THE RUSSIAN FEDERATION (a.k.a. 48 CENTRAL SCIENTIFIC RESEARCH INSTITUTE KIROV; a.k.a. 48 CENTRAL SCIENTIFIC RESEARCH INSTITUTE SERGIEV POSAD; a.k.a. 48 CENTRAL SCIENTIFIC RESEARCH INSTITUTE YEKATERINBURG; a.k.a. 48 TSNII SERGIEV POSAD; a.k.a. 48TH CENTRAL RESEARCH INSTITUTE, SERGIEV POSAD; a.k.a. 48TH TSNII KIROV; a.k.a. 48TH TSNII YEKATERINBURG; a.k.a. CENTER FOR MILITARY TECHNICAL PROBLEMS OF BIOLOGICAL DEFENSE; a.k.a. FEDERALNOE GOSUDARSTVENNOE BIUDZHETNOE UCHREZHDENIE 48 TSENTRALNYI NAUCHNO ISSLEDOVATELSKII INSTITUT MINISTERSTVA OBORONY ROSSIISKOI FEDERATSII; a.k.a. FGBU 48 TSNII MINOBORONY ROSSII; a.k.a. ZARGORSK INSTITUTE; a.k.a. “MILITARY TECHNICAL SCIENTIFIC RESEARCH INSTITUTE”; a.k.a. “SCIENTIFIC RESEARCH INSTITUTE OF EPIDEMIOLOGY AND HYGIENE”; a.k.a. “SCIENTIFIC RESEARCH INSTITUTE OF MEDICINE”; a.k.a. “SCIENTIFIC RESEARCH INSTITUTE OF MICROBIOLOGY”; a.k.a. “THE VIROLOGY CENTER”), Ul. Oktyabrskaya D. 11, Gorodok 141306, Russia; 11 Ulitsa Oktyabrskaya, Sergiev Posad-6, Moscow Oblast 141306, Russia; 119 Oktyabrsky Prospekt, Kirov, Kirov Oblast 610017, Russia; 1 Ulitsa Zvezdnaya, Yekaterinburg, Sverdlovsk Oblast 620085, Russia; Secondary sanctions risk: this person is designated for operating or having operated in a sector of the Russian Federation economy determined to support Russia's military-industrial base pursuant to section 11 of Executive Order 14024, as amended by Executive Order 14114.; Organization Established Date 07 Apr 1928; Target Type Government Entity; Tax ID No. 5042129453 (Russia); Registration Number 1136441000706 (Russia) [RUSSIA-EO14024].

Designated pursuant to section 1(a)(i) of E.O. 14024 for operating or having operated in the defense and related materiel sector of the Russian Federation economy.

4. JOINT STOCK COMPANY BRYANSK AUTOMOBILE PLANT (a.k.a. AO BRYANSKI AVTOMOBILNY ZAVOD; a.k.a. BRYANSK AUTOMOBILE FACTORY; a.k.a. “AO BAZ”; a.k.a. “JSC BAF”), 1 Staleliteinaia Ul., Bryansk 241035, Russia; 20 Novaia Basmannaia Ul., Str. 8, Moscow, Russia; Secondary sanctions risk: this person is designated for operating or having operated in a sector of the Russian Federation economy determined to support Russia's military-industrial base pursuant to section 11 of Executive Order 14024, as amended by Executive Order 14114.; Tax ID No. 3255502838 (Russia); Registration Number 1083254005141 (Russia) [RUSSIA-EO14024].

Designated pursuant to section 1(a)(i) of E.O. 14024 for operating or having operated in the defense and related materiel sector of the Russian Federation economy.

5. RUSSIAN ALL TERRAIN VEHICLES PLASTUN COMPANY (a.k.a. OBSHCHESTVO S OGRANICHENNOI OTVETSTVENNOSTIU RUSSKIE VEZDEKHODY PLASTUN; a.k.a. RUSSKIE MASHINY PLASTUN), 21 Litera A, Leitenanta Shmidta Nab., Pomeshch. 4-N, Saint Petersburg 199034, Russia; 9 Khilokskaia, Novosibirsk, Russia; Secondary sanctions risk: this person is designated for operating or having operated in a sector of the Russian Federation economy determined to support Russia's military-industrial base pursuant to section 11 of Executive Order 14024, as amended by Executive Order 14114.; Tax ID No. 7801696576 (Russia); Registration Number 1217800042283 (Russia) [RUSSIA-EO14024].

Designated pursuant to section 1(a)(i) of E.O. 14024 for operating or having operated in the defense and related materiel sector of the Russian Federation economy.

6. JOINT STOCK COMPANY REMDIZEL (a.k.a. AKTSIONERNOE OBSHCHESTVO REMDIZEL), 40 Menzelinskii Trakt, Naberezhnye Chelny 423800, Russia; Secondary sanctions risk: this person is designated for operating or having operated in a sector of the Russian Federation economy determined to support Russia's military-industrial base pursuant to section 11 of Executive Order 14024, as amended by Executive Order 14114.; Tax ID No. 1650004741 (Russia); Registration Number 1021602015050 (Russia) [RUSSIA-EO14024].

Designated pursuant to section 1(a)(i) of E.O. 14024 for operating or having operated in the defense and related materiel sector of the Russian Federation economy.

7. VOLGOGRAD MACHINE BUILDING COMPANY LIMITED LIABILITY COMPANY (a.k.a. LLC VOLGOGRAD MACHINE BUILDING COMPANY VGTZ; a.k.a. OBSHCHESTVO S OGRANICHENNOI OTVETSTVENNOSTIU VOLGOGRADSKAIA MASHINOSTROITELNAIA KOMPANIIA VGTZ; a.k.a. VOLGOGRAD TRACTOR PLANT; a.k.a. “OOO VMK VGTZ”), 1 Dzerzhinskogo Pl, Volgograd 400006, Russia; Secondary sanctions risk: this person is designated for operating or having operated in a sector of the Russian Federation economy determined to support Russia's military-industrial base pursuant to section 11 of Executive Order 14024, as amended by Executive Order 14114.; Tax ID No. 3441023695 (Russia); Registration Number 1023402461752 (Russia) [RUSSIA-EO14024].

Designated pursuant to section 1(a)(i) of E.O. 14024 for operating or having operated in the defense and related materiel sector of the Russian Federation economy.

8. JOINT STOCK COMPANY PRODUCTION ENTERPRISE RADAR 2633 (a.k.a. AKTSIONERNOE OBSHCHESTVO PROIZVODSTVENNOE PREDPRIIATIE RADAR 2633; a.k.a. AO RADAR 2633), 30 Smirnovskaya Street, Lyubertsy 140000, Russia; Secondary sanctions risk: this person is designated for operating or having operated in a sector of the Russian Federation economy determined to support Russia's military-industrial base pursuant to section 11 of Executive Order 14024, as amended by Executive Order 14114.; Tax ID No. 5027149374 (Russia); Registration Number 1095027005820 (Russia) [RUSSIA-EO14024].

Designated pursuant to section 1(a)(i) of E.O. 14024 for operating or having operated in the defense and related materiel sector of the Russian Federation economy.

9. JOINT STOCK COMPANY 99 PLANT OF AVIATION TECHNOLOGICAL EQUIPMENT (a.k.a. AKTSIONERNOE OBSHCHESTVO 99 ZAVOD AVIATSIONNOGO TEKHNOLOGICHESKOGO OBORUDOVANIIA; a.k.a. “AO 99 ZATO”), 5 Dorozhnaya Street, Shcherbinka 142172, Russia; Secondary sanctions risk: this person is designated for operating or having operated in a sector of the Russian Federation economy determined to support Russia's military-industrial base pursuant to section 11 of Executive Order 14024, as amended by Executive Order 14114.; Tax ID No. 7751520180 (Russia); Registration Number 1147746385500 (Russia) [RUSSIA-EO14024].

Designated pursuant to section 1(a)(i) of E.O. 14024 for operating or having operated in the defense and related materiel sector of the Russian Federation economy.

10. LIMITED LIABILITY COMPANY TRADING PRODUCTION COMPANY ARGUS NV (a.k.a. OBSHCHESTVO S OGRANICHENNOI OTVETSTVENNOSTIU TORGOVO PROMYSHLENNAIA KOMPANIIA ARGUS NV; a.k.a. OOO TPK ARGUS NV), 16 Dzershinsk Ul., Dzerzhinsky 140090, Russia; 7 Kosinskaya St., Moscow 111538, Russia; Secondary sanctions risk: this person is designated for operating or having operated in a sector of the Russian Federation economy determined to support Russia's military-industrial base pursuant to section 11 of Executive Order 14024, as amended by Executive Order 14114.; Tax ID No. 7731459018 (Russia); Registration Number 5137746039008 (Russia) [RUSSIA-EO14024].

Designated pursuant to section 1(a)(i) of E.O. 14024 for operating or having operated in the defense and related materiel sector of the Russian Federation economy.

11. AUTOMOBILE PLANT URAL JOINT STOCK COMPANY (a.k.a. AKTSIONERNOE OBSHCHESTVO AVTOMOBILNYI ZAVOD URAL; a.k.a. JOINT STOCK COMPANY URAL MOTOR VEHICLES PLANT; a.k.a. “AO AZ URAL”), 1 Avtozavodtsev pr-kt, Miass 456304, Russia; Secondary sanctions risk: this person is designated for operating or having operated in a sector of the Russian Federation economy determined to support Russia's military-industrial base pursuant to section 11 of Executive Order 14024, as amended by Executive Order 14114.; Tax ID No. 7415029289 (Russia); Registration Number 1027400870826 (Russia) [RUSSIA-EO14024].

Designated pursuant to section 1(a)(i) of E.O. 14024 for operating or having operated in the defense and related materiel sector of the Russian Federation economy.

12. JOINT STOCK COMPANY MUROM SPECIAL DESIGN BUREAU (a.k.a. AKTSIONERNOE OBSHCHESTVO MUROMSKOE SPETSIALNOE KONSTRUKTORSKOE BYURO; a.k.a. “AO MUROMSKOE SKB”), 5 Karacharovskoe Highway, Murom 602251, Russia; Secondary sanctions risk: this person is designated for operating or having operated in a sector of the Russian Federation economy determined to support Russia's military-industrial base pursuant to section 11 of Executive Order 14024, as amended by Executive Order 14114.; Tax ID No. 3307000983 (Russia); Registration Number 1086623002190 (Russia) [RUSSIA-EO14024].

Designated pursuant to section 1(a)(i) of E.O. 14024 for operating or having operated in the defense and related materiel sector of the Russian Federation economy.

13. JOINT STOCK COMPANY TOMSK ELECTROTECHNICAL PLANT (a.k.a. “TETZ”), 51a Kirov Ave., Tomsk 634041, Russia; Secondary sanctions risk: this person is designated for operating or having operated in a sector of the Russian Federation economy determined to support Russia's military-industrial base pursuant to section 11 of Executive Order 14024, as amended by Executive Order 14114.; Tax ID No. 7017298902 (Russia); Registration Number 1127017001605 (Russia) [RUSSIA-EO14024].

Designated pursuant to section 1(a)(i) of E.O. 14024 for operating or having operated in the defense and related materiel sector of the Russian Federation economy.

14. JOINT STOCK COMPANY URAL DESIGN BUREAU OF TRANSPORT ENGINEERING (a.k.a. AKTSIONERNOE OBSHCHESTVO URALSKOE KONSTRUKTORSKOE BIURO TRANSPORTNOGO MASHINOSTROENIIA; a.k.a. JOINT STOCK COMPANY THE URAL DESIGN OFFICE OF TRANSPORT MECHANICAL ENGINEERING; a.k.a. “AO UKBTM”), Vostochynye shosse 38, Nizhny Tagil 622007, Russia; Secondary sanctions risk: this person is designated for operating or having operated in a sector of the Russian Federation economy determined to support Russia's military-industrial base pursuant to section 11 of Executive Order 14024, as amended by Executive Order 14114.; Tax ID No. 6623049453 (Russia); Registration Number 1086623004380 (Russia) [RUSSIA-EO14024].

Designated pursuant to section 1(a)(i) of E.O. 14024 for operating or having operated in the defense and related materiel sector of the Russian Federation economy.

15. SFG BALTIKA (a.k.a. OOO ESEFDZHI BALTIKA), Per. 3-I Verkhnii D. 10, Lit. E, Office 1, Saint Petersburg 194292, Russia; Secondary sanctions risk: this person is designated for operating or having operated in a sector of the Russian Federation economy determined to support Russia's military-industrial base pursuant to section 11 of Executive Order 14024, as amended by Executive Order 14114.; Tax ID No. 7814677901 (Russia); Registration Number 1177847008019 (Russia) [RUSSIA-EO14024].

Designated pursuant to section 1(a)(i) of E.O. 14024 for operating or having operated in the manufacturing sector of the Russian Federation economy.

16. LIMITED LIABILITY COMPANY INTERVESP M, 20A Kuskovskaya Street, Moscow 111141, Russia; Pr-Kt Zelenyi 20, Et 12 Pom I kom 4, Moscow 111397, Russia; Secondary sanctions risk: this person is designated for operating or having operated in a sector of the Russian Federation economy determined to support Russia's military-industrial base pursuant to section 11 of Executive Order 14024, as amended by Executive Order 14114.; Tax ID No. 7706441909 (Russia); Registration Number 1167746856738 (Russia) [RUSSIA-EO14024].

Designated pursuant to section 1(a)(i) of E.O. 14024 for operating or having operated in the manufacturing sector of the Russian Federation economy.

17. LLC MASHIMPORT, Ul. Bolshaia Semenovskaia, 40 Str. 13, Et. 4 pomeshch. 403, Moscow 107023, Russia; Secondary sanctions risk: this person is designated for operating or having operated in a sector of the Russian Federation economy determined to support Russia's military-industrial base pursuant to section 11 of Executive Order 14024, as amended by Executive Order 14114.; Tax ID No. 7719717008 (Russia); Registration Number 1097746058552 (Russia) [RUSSIA-EO14024].

Designated pursuant to section 1(a)(i) of E.O. 14024 for operating or having operated in the manufacturing sector of the Russian Federation economy.

18. RBH TOOLS LTD (a.k.a. ER BI EICH TULZ), Office 904, 12 Aviamotornaya Street, Moscow 111024, Russia; Secondary sanctions risk: this person is designated for operating or having operated in a sector of the Russian Federation economy determined to support Russia's military-industrial base pursuant to section 11 of Executive Order 14024, as amended by Executive Order 14114.; Tax ID No. 9717071403 (Russia); Registration Number 1187746824022 (Russia) [RUSSIA-EO14024].

Designated pursuant to section 1(a)(i) of E.O. 14024 for operating or having operated in the manufacturing sector of the Russian Federation economy.

19. SILVER TECHNOLOGY LIMITED (a.k.a. SILVER TECHNOLOGIES LTD), Room 2708 Asia Trade Centre, 79 Lei Muk Road, Kai Chung, Hong Kong, China; Secondary sanctions risk: this person is designated for operating or having operated in a sector of the Russian Federation economy determined to support Russia's military-industrial base pursuant to section 11 of Executive Order 14024, as amended by Executive Order 14114.; Organization Established Date 28 Jun 2016; Registration Number 2396095 (Hong Kong) [RUSSIA-EO14024].

Designated pursuant to section 1(a)(i) of E.O. 14024 for operating or having operated in the manufacturing sector of the Russian Federation economy.

20. LIMITED TRADE DEVELOPMENT MACHINE GROUP (a.k.a. MACHINE GROUP LTD; a.k.a. “MACHINEGROUP”), Ul. Troitskaya D. 9, K. 1, Pomeshch. 1/1, Moscow 129090, Russia; Secondary sanctions risk: this person is designated for operating or having operated in a sector of the Russian Federation economy determined to support Russia's military-industrial base pursuant to section 11 of Executive Order 14024, as amended by Executive Order 14114.; Tax ID No. 7722854163 (Russia); Registration Number 5147746023640 (Russia) [RUSSIA-EO14024].

Designated pursuant to section 1(a)(i) of E.O. 14024 for operating or having operated in the manufacturing sector of the Russian Federation economy.

21. JOINT STOCK COMPANY URAL SCIENTIFIC AND TECHNOLOGICAL COMPLEX (a.k.a. AKTSIONERNOE OBSHCHESTVO URALSKII NAUCHNO TEKHNOLOGICHESKII KOMPLEKS; a.k.a. “AO UNTK”), Vostochnoe sh. 28a, Nizhny Tagil 622007, Russia; Ul. paradnaya d. 8, Saint Petersburg 191014, Russia; Secondary sanctions risk: this person is designated for operating or having operated in a sector of the Russian Federation economy determined to support Russia's military-industrial base pursuant to section 11 of Executive Order 14024, as amended by Executive Order 14114.; Tax ID No. 6667001522 (Russia); Registration Number 1026601368023 (Russia) [RUSSIA-EO14024].

Designated pursuant to section 1(a)(i) of E.O. 14024 for operating or having operated in the manufacturing sector of the Russian Federation economy.

22. LIMITED LIABILITY COMPANY LAB SERVICE (a.k.a. OBSHCHESTVO S OGRANICHENNOI OTVETSTVENNOSTIU LAB SERVIS), 17 Pobedy Ul, korp. 1, kv. 355, Elektrostal 144007, Russia; Secondary sanctions risk: this person is designated for operating or having operated in a sector of the Russian Federation economy determined to support Russia's military-industrial base pursuant to section 11 of Executive Order 14024, as amended by Executive Order 14114.; Tax ID No. 5031144393 (Russia); Registration Number 1225000010322 (Russia) [RUSSIA-EO14024].

Designated pursuant to section 1(a)(i) of E.O. 14024 for operating or having operated in the technology sector of the Russian Federation economy.

23. SYSTEMS OF BIOLOGICAL SYNTHESIS LLC (a.k.a. OBSHCHESTVO S OGRANICHENNOI OTVETSTVENNOSTIU SISTEMY BIOLOGICHESKOGO SINTEZA; a.k.a. “OOO SBS”; a.k.a. “SBS LLC”), Akademika Koroleva Street, Building 13/1, Office 35-39, Moscow 129515, Russia; Akademika Koroleva Ul, Building 13, str. 1, floor 2, Rooms 60-61, Moscow 129515, Russia; Secondary sanctions risk: this person is designated for operating or having operated in a sector of the Russian Federation economy determined to support Russia's military-industrial base pursuant to section 11 of Executive Order 14024, as amended by Executive Order 14114.; Tax ID No. 7736314136 (Russia); Registration Number 5177746097392 (Russia) [RUSSIA-EO14024].

Designated pursuant to section 1(a)(i) of E.O. 14024 for operating or having operated in the technology sector of the Russian Federation economy.

24. OBSHCHESTVO S OGRANICHENNOI OTVETSTVENNOSTIU TEKHNOLOGICHESKIE SISTEMY I SERVIS (a.k.a. TECHNOLOGICAL SYSTEMS AND SERVICE; a.k.a. “OOO TSS”), 19 Smoliachkova Ul, Litera A, Office 611, Saint Petersburg 194044, Russia; 10 Avtomobilny Pr-d, Str. 8, Moscow 109052, Russia; Secondary sanctions risk: this person is designated for operating or having operated in a sector of the Russian Federation economy determined to support Russia's military-industrial base pursuant to section 11 of Executive Order 14024, as amended by Executive Order 14114.; Tax ID No. 7802876821 (Russia); Registration Number 1147847392791 (Russia) [RUSSIA-EO14024].

Designated pursuant to section 1(a)(i) of E.O. 14024 for operating or having operated in the technology sector of the Russian Federation economy.

25. JOINT STOCK COMPANY RESEARCH AND PRODUCTION ASSOCIATION TRANSCOM (a.k.a. AKTSIONERNOE OBSHCHESTVO NAUCHNO PROIZVODSTVENNOE OBYEDINENIE TRANSKOM; a.k.a. AO NPO TRANSKOM), Proezd Entuziastov D. 19, Na Ter-Rii 403, Remontnogo Zavoda, Moscow 111024, Russia; 4 str.1, per. Malyi Ivanovskii, Moscow 109028, Russia; Secondary sanctions risk: this person is designated for operating or having operated in a sector of the Russian Federation economy determined to support Russia's military-industrial base pursuant to section 11 of Executive Order 14024, as amended by Executive Order 14114.; Tax ID No. 7709163294 (Russia); Registration Number 1027739687975 (Russia) [RUSSIA-EO14024].

Designated pursuant to section 1(a)(i) of E.O. 14024 for operating or having operated in the construction sector of the Russian Federation economy.

26. JOINT STOCK COMPANY IPN STANKOSTROENIE (a.k.a. AKTSIONERNOE OBSHCHESTVO IPN STANKOSTROENIE; a.k.a. AO IPN STANKOSTROENIE), Ul. 3-ya yamskogo polya D. 2, K. 26, Moscow 125124, Russia; Tax ID No. 7457008611 (Russia); Registration Number 1177456104638 (Russia) [RUSSIA-EO14024].

Designated pursuant to section 1(a)(vii) of E.O. 14024 for being owned or controlled by, or having acted or purported to act for or on behalf of, directly or indirectly, the Government of the Russian Federation.

27. RUSATOM MACHINE TOOLS JOINT STOCK COMPANY (a.k.a. “AO RUSSTAN” (Cyrillic: “АО РУССТАН”); a.k.a. “RMT JSC”), Ul. 3-ya Yamskogo Polya d. 2, K. 26, Moscow 125124, Russia; Per. Pyzhevskii D. 5, Str. 1, Floor/Pomeshch. 2/I, Kom./Office 39/205, Moscow 119017, Russia; Tax ID No. 9706022877 (Russia); Registration Number 1227700146838 (Russia) [RUSSIA-EO14024].

Designated pursuant to section 1(a)(vii) of E.O. 14024 for being owned or controlled by, or having acted or purported to act for or on behalf of, directly or indirectly, the Government of the Russian Federation.

Notice of Department of State Actions

On June 12, 2024, the Department of State, in consultation with other departments, as appropriate, determined that the property and interests in property subject to U.S. jurisdiction of the following persons are blocked under the relevant sanctions authority listed below.

Individuals

1. MIKLASHEVICH, Valyantsin Alfredavich (a.k.a. MIKLASHEVICH, Valentin Alfredovich; a.k.a. MIKLASHEVICH, Valiantsin), House 3, Shirokaya St., Apartment 144, Minsk, Belarus; DOB 03 Jun 1970; POB Volkovysk, Belarus; nationality Belarus; Gender Male; Secondary sanctions risk: See Section 11 of Executive Order 14024.; Passport MP1853515 (Belarus); National ID No. 3030779K030PB8 (Belarus) (individual) [RUSSIA-EO14024].

Designated pursuant to section 1(a)(i) of E.O. 14024 for operating or having operated in the defense or related materiel sector of the Russian Federation economy.

2. ZHILKIN, Viktor Nikolaevich, Russia; DOB 03 Feb 1960; POB Ageevo, Tula Oblast, Russia; nationality Russia; Gender Male; Secondary sanctions risk: See Section 11 of Executive Order 14024.; Tax ID No. 434536095851 (Russia) (individual) [RUSSIA-EO14024].

Designated pursuant to section 1(a)(i) of E.O. 14024 for operating or having operated in the defense or related materiel sector of the Russian Federation economy.

3. YURASOV, Sergey Pavlovich (a.k.a. IURASOV, Sergei Pavlovich), Russia; DOB 04 Jan 1964; POB Dalniy (Kungur), Perm Region, Russia; nationality Russia; Gender Male; Secondary sanctions risk: See Section 11 of Executive Order 14024.; Tax ID No. 525616920000 (Russia) (individual) [RUSSIA-EO14024].

Designated pursuant to section 1(a)(i) of E.O. 14024 for operating or having operated in the defense or related materiel sector of the Russian Federation economy.

4. BODYAKO, Aleksandr Mikhailovich (a.k.a. BADZIAKA, Aliaksandr Mikhailavich), 32 Zagorodnyi lane, Apartment 1, Mogilev, Belarus; DOB 20 Mar 1959; POB Village Pechary, Mogilev Region, Belarus; nationality Belarus; Gender Male; Secondary sanctions risk: See Section 11 of Executive Order 14024.; Passport KB2480817 (Belarus); National ID No. 3200359M079PB8 (Belarus) (individual) [RUSSIA-EO14024] (Linked To: UNITARY PRIVATE SCIENCE PRODUCTION ENTERPRISE TEHNOLIT).

Designated pursuant to section 1(a)(iii)(C) of E.O. 14024 for being or having been a leader, official, senior executive officer, or member of the board of directors of UNITARY PRIVATE SCIENCE PRODUCTION ENTERPRISE TEHNOLIT, an entity whose property and interests in property are blocked pursuant to E.O. 14024.

5. PERESELYAK, Elena Aleksandrovna (a.k.a. PERASIALIAK, Alena Aliaksandrauna), 21 Lenin Blvd., Apt. 24, Minsk, Belarus; DOB 20 Aug 1990; POB Zhodino, Minsk Region, Belarus; nationality Belarus; Gender Female; Secondary sanctions risk: See Section 11 of Executive Order 14024.; Passport MC2781840 (Belarus); National ID No. 4200890B016PB7 (Belarus) (individual) [RUSSIA-EO14024] (Linked To: LIMITED LIABILITY COMPANY BAZTUBE).

Designated pursuant to section 1(a)(iii)(C) of E.O. 14024 for being or having been a leader, official, senior executive officer, or member of the board of directors of LIMITED LIABILITY COMPANY BAZTUBE, an entity whose property and interests in property are blocked pursuant to E.O. 14024.

6. MANKO, Dmitry Yuryevich (a.k.a. MANKO, Dzmitry), 40 Gorkogo Street, Apartment 86, Bobruysk, Belarus; DOB 05 Aug 1973; POB Guta Village, Mogilev Region, Belarus; nationality Belarus; Gender Male; Secondary sanctions risk: See Section 11 of Executive Order 14024.; Passport KB1660910 (Belarus); National ID No. 3050873M062PB4 (Belarus) (individual) [RUSSIA-EO14024] (Linked To: JOINT STOCK COMPANY BELARUSREZINOTEKHNIKA).

Designated pursuant to section 1(a)(iii)(C) of E.O. 14024 for being or having been a leader, official, senior executive officer, or member of the board of directors of JOINT STOCK COMPANY BELARUSREZINOTEKHNIKA, an entity whose property and interests in property are blocked pursuant to E.O. 14024.

7. SHPAKOV, Oleg Petrovich (a.k.a. SHPAKAU, Aleh Piatrovich), 2 Pervomayskaya Street, Apartment 9, Mogilev, Belarus; DOB 04 Apr 1964; POB Mogilev, Belarus; nationality Belarus; Gender Male; Secondary sanctions risk: See Section 11 of Executive Order 14024.; Passport KB1586184 (Belarus); National ID No. 3040464M067PB2 (Belarus) (individual) [RUSSIA-EO14024] (Linked To: JOINT STOCK COMPANY BELARUSREZINOTEKHNIKA).

Designated pursuant to section 1(a)(iii)(C) of E.O. 14024 for being or having been a leader, official, senior executive officer, or member of the board of directors of JOINT STOCK COMPANY BELARUSREZINOTEKHNIKA, an entity whose property and interests in property are blocked pursuant to E.O. 14024.

Entities

1. JOINT STOCK COMPANY CONCERN URALVAGONZAVOD (a.k.a. AKTSIONERNOE OBSHCHESTVO KONTSERN URALVAGONZAVOD; a.k.a. AO KONTSERN URALVAGONZAVOD), 40 Bolshaya Yakimanka Street, Moscow 119049, Russia; Secondary sanctions risk: See Section 11 of Executive Order 14024.; Organization Established Date 24 Apr 2018; Target Type State-Owned Enterprise; Tax ID No. 7706453206 (Russia); Registration Number 1187746432345 (Russia) [RUSSIA-EO14024].

Designated pursuant to section 1(a)(i) of E.O. 14024 for operating or having operated in the defense or related materiel sector of the Russian Federation economy.

2. JOINT STOCK COMPANY 81 ARMORED FIGHTING VEHICLES REPAIR PLANT (a.k.a. AKTSIONERNOE OBSHCHESTVO 81 BRONETANKOVYI REMONTNYI ZAVOD; a.k.a. JOINT STOCK COMPANY 81 BTRZ; a.k.a. “AO 81 BTRZ”), 7 Pugacheva per., Armavir 352919, Russia; Secondary sanctions risk: See Section 11 of Executive Order 14024.; Target Type State-Owned Enterprise; Tax ID No. 2302060955 (Russia); Registration Number 1092302000922 (Russia) [RUSSIA-EO14024].

Designated pursuant to section 1(a)(i) of E.O. 14024 for operating or having operated in the defense or related materiel sector of the Russian Federation economy.

3. PRODUCTION UNITARY ENTERPRISE PLANT SVT (a.k.a. PROIZVODSTVENNOE UNITARNOE PREDPRIYATIE ZAVOD SVT; a.k.a. VYROBNYCHE UNITARNE PIDPRYIEMSTVO ZAVOD SVT), 58 Nezavisimosti Blvd., Building 11, Room 801, Minsk 220005, Belarus; Secondary sanctions risk: See Section 11 of Executive Order 14024.; Tax ID No. 190737825 (Belarus) [RUSSIA-EO14024].

Designated pursuant to section 1(a)(i) of E.O. 14024 for operating or having operated in the defense or related materiel sector of the Russian Federation economy.

4. LIMITED LIABILITY COMPANY SCIENTIFIC AND PRODUCTION ASSOCIATION AMB (a.k.a. OBSHCHESTVO S OGRANICHENNOI OTVETSTVENNOSTIU NAUCHNO PROIZVODSTVENNOE OBEDINENIE AMB), 14 Severnaia ul., litera r, pomeshch. 9-n chast pomeshcheniia 13-39, Saint Petersburg 196655, Russia; Secondary sanctions risk: See Section 11 of Executive Order 14024.; Tax ID No. 7804516528 (Russia); Registration Number 1137847368295 (Russia) [RUSSIA-EO14024].

Designated pursuant to section 1(a)(i) of E.O. 14024 for operating or having operated in the aerospace sector of the Russian Federation economy.

5. PUBLIC JOINT STOCK COMPANY KIROV PLANT MAYAK (a.k.a. KIROVSKI ZAVOD MAYAK PAO; a.k.a. MAYAK PLANT OF KIROV PJSC; a.k.a. PUBLICHNOE AKTSIONERNOE OBSHCHESTVO KIROVSKII ZAVOD MAIAK), 67 Molodoi Gvardii, Kirov 610000, Russia; Secondary sanctions risk: See Section 11 of Executive Order 14024.; Tax ID No. 4345000947 (Russia); Registration Number 1024301308371 (Russia) [RUSSIA-EO14024].

Designated pursuant to section 1(a)(i) of E.O. 14024 for operating or having operated in the defense or related materiel sector of the Russian Federation economy.

6. JOINT STOCK COMPANY PERM SCIENTIFIC INDUSTRIAL INSTRUMENT MAKING COMPANY (a.k.a. OJSC PERM SCIENTIFIC AND PRODUCTION INSTRUMENT AND CONSTRUCTION COMPANY; a.k.a. PAO PNPPK; a.k.a. PUBLIC JOINT STOCK COMPANY PERM RESEARCH AND PRODUCTION INSTRUMENT MAKING COMPANY; a.k.a. PUBLICHNOE AKTSIONERNOE OBSHCHESTVO PERMSKAIA NAUCHNO PROIZVODSTVENNAIA PRIBOROSTROITELNAIA KOMPANIIA), 25th of October Street, Number 106, Perm 614990, Russia; 7 Obraztsova ul., Str. 5, Moscow, Russia; 2A Arkhitekturnaia (Sosnovyi Mkr.) ul., Arzamas, Russia; Secondary sanctions risk: See Section 11 of Executive Order 14024.; Tax ID No. 5904000395 (Russia); Registration Number 1025900906349 (Russia) [RUSSIA-EO14024].

Designated pursuant to section 1(a)(i) of E.O. 14024 for operating or having operated in the defense or related materiel sector of the Russian Federation economy.

7. PUBLIC JOINT STOCK COMPANY SCIENTIFIC PRODUCTION ASSOCIATION STRELA (a.k.a. PAO NAUCHNO PROIZVODSTVENNOE OBEDINENIE STRELA; a.k.a. PJSC RESEARCH AND PRODUCTION ASSOCIATION STRELA; a.k.a. PJSC SPA STRELA; a.k.a. PUBLICHNOE AKTSIONERNOE OBSHCHESTVO NAUCHNO PROIZVODSTVENNOE OBEDINENIE STRELA; a.k.a. “NPO STRELA”; a.k.a. “PAO NPO STRELA”; a.k.a. “SPA STRELA”), 6 Maxim Gorky Street, Tula 300002, Russia; 2 Arsenalnaya Street, Tula 300002, Russia; 6 M. Gorkogo ul., Tula 300002, Russia; Secondary sanctions risk: See Section 11 of Executive Order 14024.; Target Type State-Owned Enterprise; Tax ID No. 7103028233 (Russia); Registration Number 1027100517256 (Russia) [RUSSIA-EO14024].

Designated pursuant to section 1(a)(i) of E.O. 14024 for operating or having operated in the defense or related materiel sector of the Russian Federation economy.

8. JOINT STOCK COMPANY RESEARCH AND PRODUCTION ASSOCIATION ISKRA (a.k.a. PAO NPO ISKRA; a.k.a. PUBLICHNOE AKTSIONERNOE OBSHCHESTVO NAUCHNO PROIZVODSTVENNOE OBEDINENIE ISKRA), 28 Akademika Vedeneeva ul., Perm 614038, Russia; Secondary sanctions risk: See Section 11 of Executive Order 14024.; Target Type State-Owned Enterprise; Tax ID No. 5907001774 (Russia); Registration Number 1025901509798 (Russia) [RUSSIA-EO14024].

Designated pursuant to section 1(a)(i) of E.O. 14024 for operating or having operated in the defense or related materiel sector of the Russian Federation economy.

Designated pursuant to section 1(a)(i) of E.O. 14024 for operating or having operated in the defense or related materiel sector of the Russian Federation economy.

10. JOINT STOCK COMPANY URAL HEAVY EQUIPMENT URALVAGONZAVOD (a.k.a. AKTSIONERNOE OBSHCHESTVO URALSKAYA BOLSHEGRUZNAYA TEKHNIKA URALVAGONZAVOD; a.k.a. AO UBT URALVAGONZAVOD; a.k.a. JOINT STOCK COMPANY URAL HEAVY LOAD TECHNIQUE URALVAGONZAVOD), Ul. Yunosti D. 10, Nizhniy Tagil 622018, Russia; Secondary sanctions risk: See Section 11 of Executive Order 14024.; Target Type State-Owned Enterprise; Tax ID No. 6623009965 (Russia); Registration Number 1026601370267 (Russia) [RUSSIA-EO14024] (Linked To: JOINT STOCK COMPANY SCIENTIFIC AND PRODUCTION CORPORATION URALVAGONZAVOD NAMED AFTER F E DZERZHINSKY).

Designated pursuant to section 1(a)(vii) of E.O. 14024 for being owned or controlled by, or has acted or purported to act for or on behalf of, directly or indirectly, JOINT STOCK COMPANY SCIENTIFIC AND PRODUCTION CORPORATION URALVAGONZAVOD NAMED AFTER F E DZERZHINSKY, a person whose property and interests in property are blocked pursuant to E.O. 14024.

11. LIMITED LIABILITY COMPANY ABAKAN AIR (a.k.a. OBSHCHESTVO S OGRANICHENNOI OTVETSTVENNOSTIU ABAKAN EIR), Nab. Presnenskaya D. 12, kom. A37, 24th Floor, Moscow 123112, Russia; Secondary sanctions risk: See Section 11 of Executive Order 14024.; Organization Type: Freight air transport; Tax ID No. 2455024143 (Russia); Registration Number 1052455020837 (Russia) [RUSSIA-EO14024].

Designated pursuant to section 1(a)(i) of E.O. 14024 for operating or having operated in the aerospace sector of the Russian Federation economy.

12. OBSHCHESTVO S OGRANICHENNOI OTVETSTVENNOSTIU AVIALIZING INVEST (a.k.a. AVIALEASING INVEST; a.k.a. OOO AVIALIZING INVEST), Ul. Malaya Dmitrovka D. 29, Str. 3, Moscow 127006, Russia; Secondary sanctions risk: See Section 11 of Executive Order 14024.; Tax ID No. 7707324429 (Russia); Registration Number 1037707020966 (Russia) [RUSSIA-EO14024].

Designated pursuant to section 1(a)(i) of E.O. 14024 for operating or having operated in the financial services sector of the Russian Federation economy.

13. UNITARY PRIVATE SCIENCE PRODUCTION ENTERPRISE TEHNOLIT (a.k.a. UNITARNOE CHASTNOE NAUCHNO PROIZVODSTVENNOE PREDPRIYATIE TEKHNOLIT; a.k.a. “TECHNOLYTE”), 18 Alexey Pysin Street, Mogilev 212026, Belarus; Secondary sanctions risk: See Section 11 of Executive Order 14024.; Government Gazette Number 28307680 (Belarus); Registration Number 700001147 (Belarus) [RUSSIA-EO14024] (Linked To: JOINT STOCK COMPANY 81 ARMORED FIGHTING VEHICLES REPAIR PLANT).

Designated pursuant to section 1(a)(vi)(B) of E.O. 14024 for having materially assisted, sponsored, or provided financial, material, or technological support for, or goods or services to or in support of, JOINT STOCK COMPANY 81 ARMORED FIGHTING VEHICLES REPAIR PLANT, an entity whose property and interests in property are blocked pursuant to E.O. 14024.

14. LIMITED LIABILITY COMPANY BAZTUBE (a.k.a. OBSHCHESTVO S OGRANICHENNOI OTVETSTVENNOSTYU BAZTYUB), 5B St. Sukhogryadskaya, Zhodino 222161, Belarus; 2A Zelenoborskaya Ul., Zhodzina 222161, Belarus; Secondary sanctions risk: See Section 11 of Executive Order 14024.; Tax ID No. 691738570 (Belarus); Government Gazette Number 504412066000 (Belarus) [RUSSIA-EO14024] (Linked To: JOINT STOCK COMPANY 81 ARMORED FIGHTING VEHICLES REPAIR PLANT).

Designated pursuant to section 1(a)(vi)(B) of E.O. 14024 for having materially assisted, sponsored, or provided financial, material, or technological support for, or goods or services to or in support of, JOINT STOCK COMPANY 81 ARMORED FIGHTING VEHICLES REPAIR PLANT, an entity whose property and interests in property are blocked pursuant to E.O. 14024.

15. JOINT STOCK COMPANY BELARUSREZINOTEKHNIKA (a.k.a. BELARUSREZINOTECHNIKA OJSC; a.k.a. “AO BRT”), 102 Minskaya Str., Bobruisk 213829, Belarus; Secondary sanctions risk: See Section 11 of Executive Order 14024.; Government Gazette Number 1494387000 (Belarus); Registration Number 70069297 (Belarus) [RUSSIA-EO14024] (Linked To: JOINT STOCK COMPANY 81 ARMORED FIGHTING VEHICLES REPAIR PLANT).

Designated pursuant to section 1(a)(vi)(B) of E.O. 14024 for having materially assisted, sponsored, or provided financial, material, or technological support for, or goods or services to or in support of, JOINT STOCK COMPANY 81 ARMORED FIGHTING VEHICLES REPAIR PLANT, an entity whose property and interests in property are blocked pursuant to E.O. 14024.

16. JOINT STOCK COMPANY KIROV ENERGOMASH PLANT (a.k.a. AKTSIONERNOE OBSHCHESTVO ZAVOD KIROV ENERGOMASH), Pr-kt Stachek, 47 litera i, pomeshch. 2-n, Kabinet 401, Saint Petersburg 198097, Russia; Secondary sanctions risk: See Section 11 of Executive Order 14024.; Target Type State-Owned Enterprise; Tax ID No. 7805060301 (Russia); Registration Number 1027802714444 (Russia) [RUSSIA-EO14024].

Designated pursuant to section 1(a)(vii) for being owned or controlled by, or having acted or purported to act for or on behalf of, directly or indirectly, the Government of the Russian Federation.

17. INJECT RESEARCH AND PRODUCTION ENTERPRISE LIMITED LIABILITY COMPANY (a.k.a. INJECT RME LLC; a.k.a. OBSHCHESTVO S OGRANICHENNOI OTVETSTVENNOSTIU NAUCHNO PROIZVODSTVENNOE PREDPRIIATIE INZHEKT; a.k.a. “OOO NPP INZHEKT”), Ul. Elmashevskaya, Vladenie 3 A Office 1, Saratov 410033, Russia; Secondary sanctions risk: See Section 11 of Executive Order 14024.; Target Type State-Owned Enterprise; Tax ID No. 6453142068 (Russia); Registration Number 1156451017436 (Russia) [RUSSIA-EO14024].

Designated pursuant to section 1(a)(vii) for being owned or controlled by, or having acted or purported to act for or on behalf of, directly or indirectly, the Government of the Russian Federation.

18. RESEARCH AND DEVELOPMENT INSTITUTE OF SCIENTIFIC INSTRUMENTS JOINT STOCK COMPANY (a.k.a. AKTSIONERNOE OBSHCHESTVO NAUCHNO ISSLEDOVATELSKII INSTITUT PRIBOROV; a.k.a. “AO NIIP”; a.k.a. “RISI JSC”; a.k.a. “SCIENTIFIC RESEARCH INSTITUTE OF INSTRUMENTS”), 8 Turaevo Industrial Area, Lytkarino 140080, Russia; Secondary sanctions risk: See Section 11 of Executive Order 14024.; Target Type State-Owned Enterprise; Tax ID No. 5027241394 (Russia); Registration Number 1165027055258 (Russia) [RUSSIA-EO14024].

Designated pursuant to section 1(a)(vii) for being owned or controlled by, or having acted or purported to act for or on behalf of, directly or indirectly, the Government of the Russian Federation.

On June 12, 2024, based on a decision by the Department of State, in consultation with other departments, as appropriate, OFAC updated the entry on the SDN List for the following person, whose property and interests in property subject to U.S. jurisdiction continue to be blocked under the relevant sanctions authority listed below.

1. ABDRAKHMANOV, Farid Khabibullovich (a.k.a. ABDRAKHMANOV, Faryd Khabybullovych), Russia; DOB 22 Oct 1954; POB Zelenodolsk, Russia; nationality Russia; Gender Male; Secondary sanctions risk: See Section 11 of Executive Order 14024.; National ID No. 666301586521 (Russia) (individual) [RUSSIA-EO14024].

-to-

ABDRAKHMANOV, Farid Khabibullovich (a.k.a. ABDRAKHMANOV, Faryd Khabybullovych), Russia; DOB 22 Oct 1954; POB Zelenodolsk, Russia; nationality Russia; Gender Male; Secondary sanctions risk: See Section 11 of Executive Order 14024.; Tax ID No. 666301586521 (Russia) (individual) [RUSSIA-EO14024].

Designated pursuant to section 1(a)(i) of E.O. 14024 for operating or having operated in the defense and related materiel sector of the Russian Federation economy.

2. URALVAGONZAVOD (a.k.a. AKTSIONERNOE OBSHCHESTVO KONTSERN URALVAGONZAVOD; a.k.a. JSC CONCERN URALVAGONZAVOD; a.k.a. JSC RESEARCH AND PRODUCTION CORPORATION URALVAGONZAVOD; a.k.a. JSC RESEARCH AND PRODUCTION CORPORATION URALVAGONZAVOD NAMED AFTER FE DZERZHINSKY; a.k.a. NAUCHNO-PROIZVODSTVENNAYA KORPORATSIYA URALVAGONZAVOD OAO; a.k.a. NPK URALVAGONZAVOD OAO; a.k.a. OJSC RESEARCH AND PRODUCTION CORPORATION URALVAGONZAVOD; a.k.a. RESEARCH AND PRODUCTION CORPORATION URALVAGONZAVOD OAO; a.k.a. URALVAGONZAVOD CORPORATION; a.k.a. “UVZ”), 40 Bolshaya Yakimanka Street, Moscow 119049, Russia; 28 Vostochnoye Shosse, Nizhni Tagil, Sverdlovsk Region 66207, Russia; Secondary sanctions risk: Ukraine-/Russia-Related Sanctions Regulations, 31 CFR 589.201 and/or 589.209; Tax ID No. 7706453206 (Russia); Registration Number 1187746432345 (Russia) [UKRAINE-EO13661] [RUSSIA-EO14024].

-to-

JOINT STOCK COMPANY SCIENTIFIC AND PRODUCTION CORPORATION URALVAGONZAVOD NAMED AFTER F E DZERZHINSKY (a.k.a. AKTSIONERNOE OBSHCHESTVO NAUCHNO PROIZVODSTVENNAIA KORPORATSIIA URALVAGONZAVOD IMENI F E DZERZHINSKOGO; a.k.a. JOINT STOCK COMPANY RESEARCH AND PRODUCTION CORPORATION URALVAGONZAVOD; a.k.a. NAUCHNO-PROIZVODSTVENNAYA KORPORATSIYA URALVAGONZAVOD OAO; a.k.a. NPK URALVAGONZAVOD OAO; a.k.a. OJSC RESEARCH AND PRODUCTION CORPORATION URALVAGONZAVOD; a.k.a. RESEARCH AND PRODUCTION CORPORATION URALVAGONZAVOD OAO; a.k.a. URALVAGONZAVOD CORPORATION; a.k.a. “UVZ”), 40 Bolshaya Yakimanka Street, Moscow 119049, Russia; 28 Vostochnoye Shosse, Nizhni Tagil, Sverdlovsk Region 66207, Russia; Pr-kt Lenina, d. 204, Rubtsovsk 658225, Russia; Pr-kt Lenina, d. 3, Chelyabinsk 454007, Russia; Ul. Pervomaiskaya d. 14, Volchansk 624941, Russia; Secondary sanctions risk: Ukraine-/Russia-Related Sanctions Regulations, 31 CFR 589.201 and/or 589.209; alt. Secondary sanctions risk: See Section 11 of Executive Order 14024.; Organization Established Date 31 Mar 2008; Target Type State-Owned Enterprise; Tax ID No. 6623029538 (Russia); Registration Number 1086623002190 (Russia) [UKRAINE-EO13661] [RUSSIA-EO14024].

Designated pursuant to section 1(a)(i) of E.O. 14024 for operating or having operated in the defense or related materiel sector of the Russian Federation economy.

3. POTAPOV, Aleksandr Valeryevich (a.k.a. POTAPOV, Aleksandr Valerievich), Russia; DOB 23 Feb 1963; POB Moscow, Russia; nationality Russia; Gender Male; Tax ID No. 770405465488 (Russia) (individual) [RUSSIA-EO14024] (Linked To: URALVAGONZAVOD).

-to-

POTAPOV, Aleksandr Valeryevich (a.k.a. POTAPOV, Aleksandr Valerievich), Russia; DOB 23 Feb 1963; POB Moscow, Russia; nationality Russia; Gender Male; Secondary sanctions risk: See Section 11 of Executive Order 14024.; Tax ID No. 770405465488 (Russia) (individual) [RUSSIA-EO14024] (Linked To: JOINT STOCK COMPANY CONCERN URALVAGONZAVOD).

Designated pursuant to section 1(a)(iii)(C) for being or having been a leader, official, senior executive officer, or member of the board of directors of JOINT STOCK COMPANY CONCERN URALVAGONZAVOD, an entity whose property and interests in property are blocked pursuant to E.O. 14024.

Notice of Department of State Actions

On August 23, 2024, the Department of State, in consultation with other departments, as appropriate, determined that the property and interests in property subject to U.S. jurisdiction of the following persons are blocked under the relevant sanctions authority listed below.

Individuals

1. SYPALO, Kirill Ivanovich, Russia; DOB 18 Dec 1970; POB Moscow, Russia; nationality Russia; Gender Male; Secondary sanctions risk: See Section 11 of Executive Order 14024.; Tax ID No. 773384622502 (Russia) (individual) [RUSSIA-EO14024].

Designated pursuant to section 1(a)(i) of E.O. 14024 for operating or having operated in the defense or related materiel sector of the Russian Federation economy.

2. BARANOV, Dmitrii Aleksandrovich (a.k.a. BARANOV, Dmitry Aleksandrovich), 72-128Zh Stara Zagora Street, Samara 443114, Russia; DOB 19 Jun 1970; POB Samara, Russia; nationality Russia; Gender Male; Secondary sanctions risk: See Section 11 of Executive Order 14024.; Tax ID No. 631909995294 (Russia) (individual) [RUSSIA-EO14024].

Designated pursuant to section 1(a)(i) of E.O. 14024 for operating or having operated in the defense or related materiel sector of the Russian Federation economy.

3. KHVOSHCH, Sergei Timofeevich (a.k.a. KHVOSHCH, Sergey Timofeyevich; a.k.a. KHVOSHCH, Serhiy Tymofiyovych), 11/1—121 Kosygina, St. Petersburg 195426, Russia; DOB 31 May 1951; POB Ukraine; nationality Russia; Gender Male; Secondary sanctions risk: See Section 11 of Executive Order 14024.; Tax ID No. 780600994989 (Russia) (individual) [RUSSIA-EO14024].

Designated pursuant to Section 1(a)(i) of E.O. 14024 for operating or having operated in the defense or related materiel sector of the Russian Federation economy.

4. BELOBROV, Vladislav Vladimirovich (a.k.a. BIELOBROV, Vladyslav Volodymyrovych), Russia; DOB 16 Jun 1978; POB New Uzen, Mangyshlak region, Kazakhstan; nationality Russia; Gender Male; Secondary sanctions risk: See Section 11 of Executive Order 14024.; Tax ID No. 740503063001 (Russia) (individual) [RUSSIA-EO14024].

Designated pursuant to section 1(a)(i) of E.O. 14024 for operating or having operated in the defense or related materiel sector of the Russian Federation economy.

5. KUZMENKO, Igor Vladimirovich (a.k.a. KUZMENKA, Ihar Uladzimiravich), No. 57, Sergey Gritsevts St., Orsha Bolbasovo Town, Vitebsk Region, Belarus; DOB 11 Nov 1967; POB Kagan, Uzbekistan; nationality Belarus; Gender Male; Secondary sanctions risk: See Section 11 of Executive Order 14024.; National ID No. 3111167A014PB1 (Belarus) (individual) [RUSSIA-EO14024].

Designated pursuant to section 1(a)(i) of E.O. 14024 for operating or having operated in the defense or related materiel sector of the Russian Federation economy.

6. TITOVA, Elena Vladimirovna (a.k.a. TSITOVA, Alena Uladzimirauna), Apt 62 St. Bogatyreva 131, Rogachev City, Gomel Region, Belarus; DOB 10 Nov 1976; POB Village Lubonichi, Kirovsky, Mogilev Region, Belarus; nationality Belarus; Gender Female; Secondary sanctions risk: See Section 11 of Executive Order 14024.; National ID No. 4101176M005PB3 (Belarus) (individual) [RUSSIA-EO14024].

Designated pursuant to section 1(a)(i) of E.O. 14024 for operating or having operated in the defense or related materiel sector of the Russian Federation economy.

7. FILIPPOV, Gennady Anatolievich (a.k.a. FILIPAU, Genadziy Anatolievich; a.k.a. FILIPAU, Henadzi), M/R-N 16 no. 20 apt. 123, Zhlobin, Gomel Region, Belarus; DOB 17 Mar 1974; POB Ozerany, Rogachevsky District, Gomel Region, Belarus; nationality Belarus; Gender Male; Secondary sanctions risk: See Section 11 of Executive Order 14024.; National ID No. 3170374H045PB1 (Belarus) (individual) [RUSSIA-EO14024].

Designated pursuant to section 1(a)(i) of E.O. 14024 for operating or having operated in the defense or related materiel sector of the Russian Federation economy.

8. LAVRENTIEV, Anton Konstantinovich (a.k.a. LAURENTSYEU, Anton Kanstantsinavich), 34 apt. 56, St. Ivan Bogatyreva, Rogachev City, Gomel Region, Belarus; DOB 09 Apr 1989; POB Tashkent, Uzbekistan; nationality Belarus; Gender Male; Secondary sanctions risk: See Section 11 of Executive Order 14024.; National ID No. 3090489M023PB4 (Belarus) (individual) [RUSSIA-EO14024].

Designated pursuant to section 1(a)(i) of E.O. 14024 for operating or having operated in the defense or related materiel sector of the Russian Federation economy.

9. ILYUSHCHENKO, Aleksandr Fedorovich (a.k.a. ILYUSHCHANKA, Aliaksandr Fedaravich), 9 Building 5, Apartment 21 St Gamarnika Ya. B., S, Minsk, Belarus; DOB 26 May 1956; POB Minsk, Belarus; nationality Belarus; Gender Male; Secondary sanctions risk: See Section 11 of Executive Order 14024.; National ID No. 3260556A001PB0 (Belarus) (individual) [RUSSIA-EO14024] (Linked To: STATE SCIENTIFIC AND PRODUCTION ASSOCIATION OF POWDER METALLURGY).

Designated pursuant to section 1(a)(iii)(C) for being or having been a leader, official, senior executive officer, or member of the board of directors of STATE SCIENTIFIC AND PRODUCTION ASSOCIATION OF POWDER METALLURGY, an entity whose property and interests in property are blocked pursuant to E.O. 14024.

10. KALININ, Aleksandr Olegovich (Cyrillic: КАЛИНИН, Александр Олегович), Ulitsa Volodarskogo, 9, Apt. 21, Orekhovo—Zuyevo, Moscow Region 142600, Russia; DOB 13 Jun 1983; POB Moscow Oblast, Russia; nationality Russia; Gender Male; Secondary sanctions risk: See Section 11 of Executive Order 14024.; Passport 721066388 (Russia); National ID No. 4605009658 (Russia) (individual) [RUSSIA-EO14024] (Linked To: GREDSTONE PTE LTD).

Designated pursuant to section 1(a)(iii)(C) for being or having been a leader, official, senior executive officer, or member of the board of directors of GREDSTONE PTE LTD, an entity whose property and interests in property are blocked pursuant to E.O. 14024.

11. AKSENOV, Igor Borisovich (a.k.a. AKSONOV, Ihor Borysovych; a.k.a. AKSYONOV, Igor Borisovich), Russia; DOB 20 Nov 1971; POB Baikonur, Kazakhstan; nationality Russia; Gender Male; Secondary sanctions risk: See Section 11 of Executive Order 14024.; Tax ID No. 732800052176 (Russia) (individual) [RUSSIA-EO14024].

Designated pursuant to section 1(a)(i) of E.O. 14024 for operating or having operated in the aerospace sector of the Russian Federation economy.

12. KOROBKO, Nikolai Alekseevich (a.k.a. KOROBKO, Mykola Oleksiiovych), Russia; DOB 14 Jan 1950; POB Solenoye, Kalmykia, Russia; nationality Russia; Gender Male; Secondary sanctions risk: See Section 11 of Executive Order 14024.; Passport 7301193828 (Russia); alt. Passport 0710012691 (Russia); Tax ID No. 732800060667 (Russia) (individual) [RUSSIA-EO14024].

Designated pursuant to section 1(a)(i) of E.O. 14024 for operating or having operated in the aerospace sector of the Russian Federation economy.

13. ISAYKIN, Alexey Ivanovich (a.k.a. ISAIKIN, Aleksei Ivanovich; a.k.a. ISAIKIN, Alexey Ivanovich), 19 bld. 1, Apt 54, Kosygina Street, Moscow 119334, Russia; DOB 09 Sep 1952; POB Talas, Kyrgyzstan; nationality Russia; alt. nationality Cyprus; Gender Male; Secondary sanctions risk: See Section 11 of Executive Order 14024.; Passport 550074072 (Russia); Tax ID No. 770405603410 (Russia) (individual) [RUSSIA-EO14024].

Designated pursuant to section 1(a)(i) of E.O. 14024 for operating or having operated in the aerospace sector of the Russian Federation economy.

14. DYACHKOV, Sergey Adolfovich (a.k.a. DIACHKOV, Sergei Adolfovich; a.k.a. DYACHKOV, Sergei Adolfovich), Russia; DOB 26 May 1959; POB Ulyanovsk Region, Russia; nationality Russia; Gender Male; Secondary sanctions risk: See Section 11 of Executive Order 14024.; Passport 7304273188 (Russia); alt. Passport 7301381541 (Russia); Tax ID No. 73280738648127 (Russia) (individual) [RUSSIA-EO14024].

Designated pursuant to section 1(a)(i) of E.O. 14024 for operating or having operated in the aerospace sector of the Russian Federation economy.

15. GABRIEL, Valery Alexandrovich (a.k.a. GABRIEL, Valerii Aleksandrovich), Russia; DOB 03 Jan 1956; POB Starobelsk, Luhansk Region, Ukraine; nationality Russia; alt. nationality Germany; Gender Male; Secondary sanctions risk: See Section 11 of Executive Order 14024.; Tax ID No. 732808701175 (Russia) (individual) [RUSSIA-EO14024].

Designated pursuant to section 1(a)(i) of E.O. 14024 for operating or having operated in the aerospace sector of the Russian Federation economy.

16. ZINUROV, Vildan Khanifovich (a.k.a. ZINNUROV, Vildan Khanifovich), Russia; DOB 30 Jan 1964; POB Pokhbistnevsky district, Samara Region, Russia; nationality Russia; Gender Male; Secondary sanctions risk: See Section 11 of Executive Order 14024.; Passport 7308664347 (Russia); alt. Passport 7303853009 (Russia); Tax ID No. 732500186500 (Russia) (individual) [RUSSIA-EO14024].

Designated pursuant to section 1(a)(i) of E.O. 14024 for operating or having operated in the aerospace sector of the Russian Federation economy.

17. SHKLIANIK, Sergei Ivanovich (a.k.a. SHKLYANIK, Sergey), 28-100 Grokholyskiy Ln., Moscow 129010, Russia; DOB 04 May 1956; POB Savichi, Belarus; nationality Russia; alt. nationality Cyprus; Gender Male; Secondary sanctions risk: See Section 11 of Executive Order 14024.; Tax ID No. 770804439659 (Russia) (individual) [RUSSIA-EO14024].

Designated pursuant to section 1(a)(i) of E.O. 14024 for operating or having operated in the aerospace sector of the Russian Federation economy.

18. SOROKIN, Dmitrii Sergeevich (a.k.a. SOROKIN, Dmitry Sergeyevich), 16-63 40-Letya Pobedy Str, Ulyanovsk 432064, Russia; DOB 18 Dec 1974; POB Miass, Russia; nationality Russia; Gender Male; Secondary sanctions risk: See Section 11 of Executive Order 14024.; National ID No. 7302481876 (Russia); Tax ID No. 732808920547 (Russia) (individual) [RUSSIA-EO14024].

Designated pursuant to section 1(a)(i) of E.O. 14024 for operating or having operated in the aerospace sector of the Russian Federation economy.

19. GUSEV, Nikita Vladimirovich, 7 Sadovaya Street Apt 4, Sormovsky Proletary 606492, Russia; DOB 25 Feb 1992; POB Kriushi, Russia; nationality Russia; Gender Male; Secondary sanctions risk: See Section 11 of Executive Order 14024.; National ID No. 4511582626 (Russia); Tax ID No. 732102356583 (Russia) (individual) [RUSSIA-EO14024].

Designated pursuant to section 1(a)(i) of E.O. 14024 for operating or having operated in the aerospace sector of the Russian Federation economy.

Entities

Designated pursuant to section 1(a)(i) of E.O. 14024 for operating or having operated in the defense or related materiel sector of the Russian Federation economy.

2. JOINT STOCK COMPANY SCIENTIFIC PRODUCTION ASSOCIATION ORION (a.k.a. AKTSIONERNOE OBSHCHESTVO NAUCHNO PROIZVODSTVENNOE OBEDINENIE ORION; a.k.a. AO NPO ORION; a.k.a. ENTERPRISE RESEARCH DEVELOPMENT AND PRODUCTION CENTER ORION; a.k.a. JSC SPA ORION; a.k.a. ORION RESEARCH AND PRODUCTION ASSOCIATION), 9 Kosinskaya st., Moscow 111538, Russia; Secondary sanctions risk: See Section 11 of Executive Order 14024.; Target Type State-Owned Enterprise; Tax ID No. 7720770380 (Russia); Registration Number 1127747292738 (Russia) [RUSSIA-EO14024].

Designated pursuant to section 1(a)(i) of E.O. 14024 for operating or having operated in the defense or related materiel sector of the Russian Federation economy.

3. FEDERAL AUTONOMOUS ENTERPRISE THE CENTRAL AEROHYDRODYNAMIC INSTITUTE NAMED AFTER PROFESSOR NE ZHUKOVSKY (a.k.a. “TSAGI”), 1 Zhukovskogo ul., Zhukovskii 140180, Russia; 26 Chkalova ul., Zhukovskii 140181, Russia; Secondary sanctions risk: See Section 11 of Executive Order 14024.; Tax ID No. 1225000018803 (Russia); Registration Number 5040177331 (Russia) [RUSSIA-EO14024].

Designated pursuant to section 1(a)(i) of E.O. 14024 for operating or having operated in the defense or related materiel sector of the Russian Federation economy.

4. JOINT STOCK COMPANY RESEARCH AND PRODUCTION SPACE CENTRE PROGRESS (a.k.a. AKTSIONERNOE OBSHCHESTVO RAKETNO KOSMICHESKII TSENTR PROGRESS; a.k.a. AO RKTS PROGRESS; a.k.a. TSSKB PROGRESS), 18 Zemetsa ul., Samara 443009, Russia; 13 Marshala Nedelina ul., Tsiolkovskii, Russia; 10 Lesnaia ul., Mirnyi, Russia; 8 Konstruktora Guskova str. 2, Zelenograd, Russia; Secondary sanctions risk: See Section 11 of Executive Order 14024.; Target Type State-Owned Enterprise; Tax ID No. 6312139922 (Russia); Registration Number 1146312005344 (Russia) [RUSSIA-EO14024].

Designated pursuant to section 1(a)(i) of E.O. 14024 for operating or having operated in the defense or related materiel sector of the Russian Federation economy.

5. RUSSIAN ACADEMY OF SCIENCES SIBERIAN BRANCH KHRISTIANOVICH INSTITUTE OF THEORETICAL AND APPLIED MECHANICS (a.k.a. FEDERALNOE GOSUDARSTVENNOE BIUDZHETNOE UCHREZHDENIE NAUKI INSTITUT TEORETICHESKOI I PRIKLADNOI MEKHANIKI IM SA KHRISTIANOVICHA SIBIRSKOGO OTDELENIIA ROSSIISKOI AKADEMII NAUK; a.k.a. ITAM SB RAS; a.k.a. ITPM SO RAN), 4/1 Institutskaya ul., Novosibirsk 630090, Russia; 74 Taimyrskaia ul., Tyumen, Russia; Secondary sanctions risk: See Section 11 of Executive Order 14024.; Tax ID No. 5408100018 (Russia); Registration Number 1025403641900 (Russia) [RUSSIA-EO14024].

Designated pursuant to section 1(a)(i) of E.O. 14024 for operating or having operated in the defense or related materiel sector of the Russian Federation economy.

6. JOINT STOCK COMPANY ELECTRONIC COMPANY ELKUS (a.k.a. AKTSIONERNOE OBSHCHESTVO ELEKTRONNAIA KOMPANIIA ELKUS; a.k.a. ELCUS JSC), 10 Blagodatnaya ul., str. 1, Office 424, St. Petersburg 196128, Russia; Secondary sanctions risk: See Section 11 of Executive Order 14024.; Tax ID No. 7806002060 (Russia); Registration Number 1027804181965 (Russia) [RUSSIA-EO14024].

Designated pursuant to section 1(a)(i) of E.O. 14024 for operating or having operated in the defense or related materiel sector of the Russian Federation economy.

7. JOINT STOCK COMPANY OKTAVA (a.k.a. AKTSIONERNOE OBSHCHESTVO OKTAVA; a.k.a. OKTAVA PLANT), D. 24 Kaminskogo ul., Tula 300000, Russia; Secondary sanctions risk: See Section 11 of Executive Order 14024.; Target Type State-Owned Enterprise; Tax ID No. 7107033763 (Russia); Registration Number 1027100967740 (Russia) [RUSSIA-EO14024].

Designated pursuant to section 1(a)(i) of E.O. 14024 for operating or having operated in the defense or related materiel sector of the Russian Federation economy

8. K A VOLODIN INSTRUMENT ENGINEERING PLANT FEDERAL STATE UNITARY ENTERPRISE (a.k.a. IEP FSUE; a.k.a. INSTRUMENT ENGINEERING PLANT FSUE; a.k.a. PREDSTAVITELSTVO FEDERALNOGO GOSUDARSTVENNOGO UNITARNOGO PREDPRIIATIIA PRIBOROSTROITELNYI ZAVOD IMENI K A VOLODINA), 13 Zarechnaia ul., Trekhgornyi 456082, Russia; 25 str. 1 Bolshaia Polianka ul., Moscow 119180, Russia; 24 Alleia Druzhby ul., Evpatoriia, Crimea 97493, Ukraine; Secondary sanctions risk: See Section 11 of Executive Order 14024.; Target Type State-Owned Enterprise; Tax ID No. 7405000428 (Russia); Registration Number 1027400661650 (Russia) [RUSSIA-EO14024].

Designated pursuant to section 1(a)(i) of E.O. 14024 for operating or having operated in the defense or related materiel sector of the Russian Federation economy.

9. JOINT STOCK COMPANY RESEARCH INSTITUTE FOR AUTOMATED APPARATUS NAMED AFTER ACADEMICIAN V S SEMENIKHIN (a.k.a. AKTSIONERNOE OBSHCHESTVO ORDENA TRUDOVOGO KRASNOGO ZNAMENI NAUCHNOISSLEDOVATELSKII INSTITUT AVTOMATICHESKOI APPARATURY IM AKADEMIKA V S SEMENIKHINA; a.k.a. NIIAA NAMED AFTER ACADEMICIAN VS SEMENIKHIN FSUE; a.k.a. “AO NIIAA”), D. 78 Profsoyuznaya Ul., Moscow 117393, Russia; Secondary sanctions risk: See Section 11 of Executive Order 14024.; Target Type State-Owned Enterprise; Tax ID No. 7728795443 (Russia); Registration Number 1127746009500 (Russia) [RUSSIA-EO14024].

Designated pursuant to section 1(a)(i) of E.O. 14024 for operating or having operated in the defense or related materiel sector of the Russian Federation economy.

10. JOINT STOCK COMPANY ZAVOLZHSKY CRAWLER VEHICLE PLANT (a.k.a. AO ZAVOLZHSKIY ZAVOD GUSENICHNIKH TYAGACHEY; a.k.a. ZAVOLZHSKY TRACKED TRACTOR PLANT; a.k.a. “AO ZZGT”; a.k.a. “JSC ZCVP”), 1 Zheleznodorozhnaya Street, Zavolzhe 606522, Russia; Secondary sanctions risk: See Section 11 of Executive Order 14024.; Tax ID No. 5248031980 (Russia); Registration Number 1115248002110 (Russia) [RUSSIA-EO14024].

Designated pursuant to section 1(a)(i) of E.O. 14024 for operating or having operated in the defense or related materiel sector of the Russian Federation economy.

11. DESIGN BUREAU OF CHEMICAL MACHINE BUILDING KBKHM (a.k.a. AKTSIONERNOE OBSHCHESTVO KONSTRUKTORSKOE BIURO KHIMICHESKOGO MASHINOSTROENIIA IMENI AM ISAEVA; a.k.a. AM ISAYEV CHEMICAL ENGINEERING DESIGN BUREAU; a.k.a. AO KBKHIMMASH IM AM ISAEVA; a.k.a. DESIGN BUREAU FOR CHEMICAL MACHINE BUILDING; a.k.a. KB KHIM MASH), 12 Bogomolova St., Korolyev 141070, Russia; Secondary sanctions risk: See Section 11 of Executive Order 14024.; Target Type State-Owned Enterprise; Tax ID No. 5018202198 (Russia); Registration Number 1195081083878 (Russia) [RUSSIA-EO14024].

Designated pursuant to section 1(a)(i) of E.O. 14024 for operating or having operated in the defense or related materiel sector of the Russian Federation economy.

12. FEDERAL STATE ENTERPRISE AMUR CARTRIDGE PLANT VYMPEL (a.k.a. FEDERALNOE KAZENNOE PREDPRIIATIE AMURSKII PATRONNYI ZAVOD VYMPEL IMENI PV FINOGENOVA; a.k.a. FKP APZ VYMPEL IM PV FINOGENOVA; a.k.a. FSE ACP VYMPEL; a.k.a. VYMPEL STATE PRODUCTION ASSOCIATION), D.12 Sh. Mashinostroitelei, Amursk 682640, Russia; Secondary sanctions risk: See Section 11 of Executive Order 14024.; Target Type State-Owned Enterprise; Tax ID No. 2706000260 (Russia); Registration Number 1022700650609 (Russia) [RUSSIA-EO14024].

Designated pursuant to section 1(a)(i) of E.O. 14024 for operating or having operated in the defense or related materiel sector of the Russian Federation economy.

13. MILITARY ENGINEERING CENTRE LIMITED LIABILITY COMPANY (a.k.a. OBSHCHESTVO S OGRANICHENNOI OTVETSTVENNOSTIU VOENNO INZHENERNYI TSENTR; a.k.a. “OOO VITS”), 88 pr-kt Lenina, Nizhnii Novgorod 603004, Russia; Secondary sanctions risk: See Section 11 of Executive Order 14024.; Tax ID No. 5256072148 (Russia); Registration Number 1075256008618 (Russia) [RUSSIA-EO14024].

Designated pursuant to section 1(a)(i) of E.O. 14024 for operating or having operated in the defense or related materiel sector of the Russian Federation economy.

14. OPEN JOINT STOCK COMPANY ROGACHEVSKY ZAVOD DIAPROEKTOR (a.k.a. OJSC ROGACHEV PLANT DIAPROJECTOR), 142 Lenin Str., Rogachev 247675, Belarus; Secondary sanctions risk: See Section 11 of Executive Order 14024.; Registration Number 400046055 (Belarus) [RUSSIA-EO14024].

Designated pursuant to section 1(a)(i) of E.O. 14024 for operating or having operated in the defense or related materiel sector of the Russian Federation economy.

15. JOINT STOCK COMPANY 41 CENTRAL PLANT OF THE RAILWAY TECHNOLOGY (a.k.a. 41ST CENTRAL RAILWAY EQUIPMENT PLANT; a.k.a. AKTSIONERNOE OBSHCHESTVO 41 TSENTRALNYI ZAVOD ZHELEZNODOROZHNOI TEKHNIKI; a.k.a. AO 41 TSENTRALNYI ZAVOD), Proezd Proektiruemyi 4296, Vladenie 3, Lyubertsy 140008, Russia; Secondary sanctions risk: See Section 11 of Executive Order 14024.; Target Type State-Owned Enterprise; Tax ID No. 5027150193 (Russia); Registration Number 1095027006722 (Russia) [RUSSIA-EO14024].

Designated pursuant to section 1(a)(i) of E.O. 14024 for operating or having operated in the defense or related materiel sector of the Russian Federation economy.

16. JOINT STOCK COMPANY SCIENTIFIC PRODUCTION ENTERPRISE SALYUT (a.k.a. AKTSIONERNOE OBSHCHESTVO NAUCHNO PROIZVODSTVENNOE PREDPRIIATIE SALIUT; a.k.a. AO NPP SALYUT; a.k.a. NPP SALYUT JSC), Ul. Plekhanova, 6, Moscow 111123, Russia; Secondary sanctions risk: See Section 11 of Executive Order 14024.; Target Type State-Owned Enterprise; Tax ID No. 7720673002 (Russia); Registration Number 1097746763102 (Russia) [RUSSIA-EO14024].

Designated pursuant to section 1(a)(i) of E.O. 14024 for operating or having operated in the defense or related materiel sector of the Russian Federation economy.

17. JOINT STOCK COMPANY STRATIM (a.k.a. JSC STRATIM; a.k.a. STRATIM COMPANY; a.k.a. STRATIM DESIGN BUREAU), Pr-kt Federativnyi, D. 5, Korp. 1, Pomeshch. 1/1, Moscow 111399, Russia; Secondary sanctions risk: See Section 11 of Executive Order 14024.; Organization Established Date 03 Jul 2023; Tax ID No. 7720901379 (Russia); Registration Number 1237700447324 (Russia) [RUSSIA-EO14024].

Designated pursuant to section 1(a)(i) of E.O. 14024 for operating or having operated in the defense or related materiel sector of the Russian Federation economy.

18. FEDERALNOE KAZENNOE PREDPRIIATIE AVANGARD (a.k.a. FKP AVANGARD), Ul. Olega Koshevogo D.2, Sterlitamak 453102, Russia; Secondary sanctions risk: See Section 11 of Executive Order 14024.; Target Type State-Owned Enterprise; Tax ID No. 0268005588 (Russia); Registration Number 1020202089115 (Russia) [RUSSIA-EO14024].

Designated pursuant to section 1(a)(i) of E.O. 14024 for operating or having operated in the defense or related materiel sector of the Russian Federation economy.

19. FEDERALNOE KAZENNOE PREDPRIIATIE GOSUDARSTVENNYI NAUCHNO ISSLEDOVATELSKII INSTITUT KHIMICHESKIKH PRODUKTOV (a.k.a. FEDERAL STATE INSTITUTION STATE RESEARCH INSTITUTE OF CHEMICAL PRODUCTS; a.k.a. FKP GOSNIIKHP; a.k.a. GOSUDARSTVENNYI NAUCHNO ISSLEDOVATELSKII INSTITUT KHIMICHESKIKH PRODUKTOV), Ul. Svetlaya D. 1, Kazan 420033, Russia; Secondary sanctions risk: See Section 11 of Executive Order 14024.; Target Type State-Owned Enterprise; Tax ID No. 1656003409 (Russia); Registration Number 1021603067683 (Russia) [RUSSIA-EO14024].

Designated pursuant to section 1(a)(i) of E.O. 14024 for operating or having operated in the defense or related materiel sector of the Russian Federation economy.

20. STATE SCIENTIFIC AND PRODUCTION ASSOCIATION OF POWDER METALLURGY (a.k.a. STATE RESEARCH AND PRODUCTION POWDER METALLURGY ASSOCIATION; a.k.a. “GNPO PM”), 41 Platonova Str., Minsk 220005, Belarus; Secondary sanctions risk: See Section 11 of Executive Order 14024.; Tax ID No. 100512805 (Belarus); Government Gazette Number 000247915000 (Belarus) [RUSSIA-EO14024] (Linked To: JSC 558 AIRCRAFT REPAIR PLANT).

Designated pursuant to section 1(a)(vi)(B) of E.O. 14024 for having materially assisted, sponsored, or provided financial, material, or technological support for, or goods or services to or in support of JSC 558 AIRCRAFT REPAIR PLANT, an entity whose property and interests in property are blocked pursuant to E.O. 14024.

21. GREDSTONE PTE LTD, The Central, 6 Eu Tong Sen Street #09-09, Singapore 59817, Singapore; Secondary sanctions risk: See Section 11 of Executive Order 14024.; Tax ID No. 201914576G (Singapore) [RUSSIA-EO14024] (Linked To: MAIN DIRECTORATE OF DEEP SEA RESEARCH).

Designated pursuant to section 1(a)(vi)(B) of E.O. 14024 for having materially assisted, sponsored, or provided financial, material, or technological support for, or goods or services to or in support of MAIN DIECTORATE OF DEEP SEA RESEARCH, an entity whose property and interests in property are blocked pursuant to E.O. 14024.

22. LIMITED LIABILITY COMPANY RESEARCH AND DEVELOPMENT CENTER ECOPROMSERTIFIKA (a.k.a. OBSHCHESTVO S OGRANICHENNOI OTVETSTVENNOSTIU NAUCHNO PROIZVODSTVENNYI TSENTR EKOPROMSERTIFIKA; a.k.a. OOO NPTS EKOPROMSERTIFIKA), D. 4 UI. Verkhnyaya Radishchevskaya, str. 3, pom. III komn 1i, Moscow 109240, Russia; Secondary sanctions risk: See Section 11 of Executive Order 14024.; Tax ID No. 7705564792 (Russia); Registration Number 1037739896149 (Russia) [RUSSIA-EO14024].

Designated pursuant to section 1(a)(i) of E.O. 14024 for operating or having operated in the engineering sector of the Russian Federation economy.

23. JOINT STOCK COMPANY RESEARCH PRODUCTION ENTERPRISE KVANT (a.k.a. AKTSIONERNOE OBSHCHESTVO NAUCHNO PROIZVODSTVENNOE PREDPRIIATIE KVANT; a.k.a. AO NPP KVANT; a.k.a. NPP QUANTUM), D. 16 3-ya Mytishchinskaya UI., Moscow 129626, Russia; Secondary sanctions risk: See Section 11 of Executive Order 14024.; Target Type State-Owned Enterprise; Tax ID No. 7717585042 (Russia); Registration Number 5077746415533 (Russia) [RUSSIA-EO14024].

Designated pursuant to section 1(a)(i) of E.O. 14024 for operating or having operated in the engineering sector of the Russian Federation economy.

24. LIMITED LIABILITY COMPANY VOLGA DNEPR AIRLINES (a.k.a. AVIAKOMPANIYA VOLGA DNEPR; a.k.a. OBSHCHESTVO S OGRANICHENNOI OTVETSTVENNOSTIU AVIAKOMPANIIA VOLGA DNEPR), D. 14 Karbysheva ul., Ulyanovsk 432072, Russia; 28B Mezhdunarodnoe sh., str. 2, et. 4 kom. 443, Moscow 141400, Russia; Hanoi, Vietnam; Secondary sanctions risk: See Section 11 of Executive Order 14024.; Organization Type: Freight air transport; Tax ID No. 7328510118 (Russia); Registration Number 1077328004841 (Russia) [RUSSIA-EO14024].

Designated pursuant to section 1(a)(i) of E.O. 14024 for operating or having operated in the aerospace sector of the Russian Federation economy.

25. LIMITED LIABILITY COMPANY VOLGA DNEPR MOSCOW (a.k.a. OBSHCHESTVO S OGRANICHENNOI OTVETSTVENNOSTIU VOLGA DNEPR MOSKVA; a.k.a. VOLGA DNEPR GROUP), 28B Str. 3 Mezhdunarodnoe sh., Moscow 141411, Russia; D. 17, Korp 4 Krylatskaya Ul., Moscow 121614, Russia; 1010 Air China Building, 36 Xiaoyun road, Chaoyang district, Beijing 100027, China; Secondary sanctions risk: See Section 11 of Executive Order 14024.; Tax ID No. 7704223366 (Russia); Registration Number 1027700590521 (Russia) [RUSSIA-EO14024].

Designated pursuant to section 1(a)(i) of E.O. 14024 for operating or having operated in the aerospace sector of the Russian Federation economy.

26. ATRAN LIMITED LIABILITY COMPANY (a.k.a. ATRAN CARGO AIRLINES; a.k.a. OBSHCHESTVO S OGRANICHENNOI OTVETSTVENNOSTIU ATRAN; a.k.a. OOO ATRAN), D 28, Lit. B, Str. 3 Mezhdunarodnoe Sh., Moscow 141411, Russia; A/P Sheremetyevo-1 Postbox 10, Khimki 141426, Russia; Secondary sanctions risk: See Section 11 of Executive Order 14024.; Organization Type: Freight air transport; Tax ID No. 5009053648 (Russia); Registration Number 1065009017897 (Russia) [RUSSIA-EO14024].

Designated pursuant to section 1(a)(i) of E.O. 14024 for operating or having operated in the aerospace sector of the Russian Federation economy.

27. AIRBRIDGECARGO AIRLINES LIMITED LIABILITY COMPANY (a.k.a. AK EIRBRIDZHKARGO; a.k.a. OBSHCHESTVO S OGRANICHENNOI OTVETSTVENNOSTIU AVIAKOMPANIIA EIRBRIDZHKARGO), D. 28B, Str. 3 Mezhdunarodnoe Sh., Moscow 141411, Russia; Secondary sanctions risk: See Section 11 of Executive Order 14024.; Organization Type: Freight air transport; Tax ID No. 7704548011 (Russia); Registration Number 1057746295474 (Russia) [RUSSIA-EO14024].

Designated pursuant to section 1(a)(i) of E.O. 14024 for operating or having operated in the aerospace sector of the Russian Federation economy.

28. OBSHCHESTVO S OGRANICHENNOI OTVETSTVENNOSTIU REINOLDS (a.k.a. OOO REINOLDS; a.k.a. REYNOLDS AERO; a.k.a. REYNOLDS GAS TURBINES; a.k.a. REYNOLDS LIMITED LIABILITY COMPANY), 9 str. 21, Ul. Godovikova, Moscow 129085, Russia; 9 str. 17, Ul. Godovikova, Moscow 129085, Russia; Secondary sanctions risk: See Section 11 of Executive Order 14024.; Tax ID No. 7731390782 (Russia); Registration Number 5177746181135 (Russia) [RUSSIA-EO14024].

Designated pursuant to section 1(a)(i) of E.O. 14024 for operating or having operated in the aerospace sector of the Russian Federation economy.

29. REINOLDS INZHINIRING (a.k.a. LIMITED LIABILITY COMPANY REYNOLDS ENGINEERING; a.k.a. LLC REYNOLDSENGINEERING), D.9, Str. 21 Pomeshch. 1.1 (Floor 1), Kom. 1.1.1 Ul. Godovikova, Moscow 129085, Russia; Secondary sanctions risk: See Section 11 of Executive Order 14024.; Tax ID No. 9717103694 (Russia); Registration Number 1217700319627 (Russia) [RUSSIA-EO14024].

Designated pursuant to section 1(a)(i) of E.O. 14024 for operating or having operated in the aerospace sector of the Russian Federation economy.

30. STRATIM LIMITED LIABILITY COMPANY (a.k.a. STRATIM LLC), ul. Varvarskaia, 6, pomeshch. P6, Nizhny Novgorod 603000, Russia; Secondary sanctions risk: See Section 11 of Executive Order 14024.; Organization Established Date 01 Apr 2024; Tax ID No. 5260494520 (Russia); Registration Number 1245200009075 (Russia) [RUSSIA-EO14024].

Designated pursuant to section 1(a)(i) of E.O. 14024 for operating or having operated in the aerospace sector of the Russian Federation economy.

31. JOINT STOCK COMPANY STRATIM TECH (a.k.a. JSC STRATIM TECH), ul. Shipilovskaia, d. 64, korp. 1, pomeshch. 147, Moscow 115682, Russia; Secondary sanctions risk: See Section 11 of Executive Order 14024.; Organization Established Date 12 Sep 2023; Tax ID No. 9724145543 (Russia); Registration Number 1237700601490 (Russia) [RUSSIA-EO14024].

Designated pursuant to section 1(a)(i) of E.O. 14024 for operating or having operated in the aerospace sector of the Russian Federation economy.

32. JOINT STOCK COMPANY GEOFIZICA COSMOS (a.k.a. AKTSIONERNOE OBSHCHESTVO NAUCHNO PROIZVODSTVENNOE PREDPRIIATIE GEOFIZIKA KOSMOS; a.k.a. AO NPP GEOFIZIKA KOSMOS), D. 11 Ul. Irkutskaya korp. 1, Moscow 107497, Russia; Secondary sanctions risk: See Section 11 of Executive Order 14024.; Target Type State-Owned Enterprise; Tax ID No. 7718649612 (Russia); Registration Number 5077746924074 (Russia) [RUSSIA-EO14024].

Designated pursuant to section 1(a)(i) of E.O. 14024 for operating or having operated in the manufacturing sector of the Russian Federation economy.

33. OBSHCHESTVO S OGRANICHENNOI OTVETSTVENNOSTIU NORGAU RUSSLAND (a.k.a. NORGAU RUSSLAND GMBH; a.k.a. OOO NORGAU RUSSLAND), ul. Novatorov, 1, et./pomeshch. 2/LVI kom. 77, Moscow 119421, Russia; Secondary sanctions risk: See Section 11 of Executive Order 14024.; Tax ID No. 7727159340 (Russia); Registration Number 1037739226293 (Russia) [RUSSIA-EO14024].

Designated pursuant to section 1(a)(i) of E.O. 14024 for operating or having operated in the manufacturing sector of the Russian Federation economy.

34. CHIP EXPERT LIMITED LIABILITY COMPANY (a.k.a. OBSHCHESTVO S OGRANICHENNOI OTVETSTVENNOSTIU CHIP EKSPERT; a.k.a. OOO CHIP EKSPERT), Ul. Glukharskaya D. 27, K. 1 Str 1, Kv. 428, Saint Petersburg 197350, Russia; Secondary sanctions risk: See Section 11 of Executive Order 14024.; Tax ID No. 7814755412 (Russia); Registration Number 1197847063370 (Russia) [RUSSIA-EO14024].

Designated pursuant to section 1(a)(i) of E.O. 14024 for operating or having operated in the electronics sector of the Russian Federation economy.

35. ISTOK ENGINEERING AND CONSTRUCTION JOINT STOCK COMPANY (a.k.a. ISTOK E AND C JSC; a.k.a. ISTOK E&C JSC; a.k.a. JSC KIS ISTOK), Ul. Krasnokazarmennaya D. 12, Str. 38, Floor/Pom./Komnata 2/Iv/19, Moscow 111250, Russia; ul. Oktiabrskaia, 11, Ozersk, Chelyabinsk Oblast, Russia; ul. Dibunovskaia, 55, litera a, Saint Petersburg 197183, Russia; Secondary sanctions risk: See Section 11 of Executive Order 14024.; Target Type State-Owned Enterprise; Tax ID No. 9722006872 (Russia); Registration Number 1217700403690 (Russia) [RUSSIA-EO14024].

Designated pursuant to section 1(a)(vii) of E.O. 14024 for being owned or controlled by, or has acted or purported to act for or on behalf of, directly or indirectly, the Government of the Russian Federation.

Notice of Department of State Actions

On September 10, 2024, the Department of State, in consultation with other departments, as appropriate, determined that the property and interests in property subject to U.S. jurisdiction of the following persons are blocked under the relevant sanctions authority listed below

Entities

1. SEA RIVER SERVICE LIMITED LIABILITY COMPANY (a.k.a. MORE REKA SERVIS; a.k.a. OBSHCHESTVO S OGRANICHENNOI OTVETSTVENNOSTIU MORE REKA SERVIS; a.k.a. SEA RIVER SERVICE LLC), Office 1, ul Lenina 53, Azov, Rostov Oblast 346780, Russia; Secondary sanctions risk: See Section 11 of Executive Order 14024.; Organization Established Date 25 Mar 2015; Tax ID No. 6140000869 (Russia); Identification Number IMO 6083740; Business Registration Number 1156188000649 (Russia) [RUSSIA-EO14024].

Designated pursuant to section 1(a)(i) of E.O. 14024 for operating or having operated in the marine sector of the Russian Federation economy.

2. VAFA WHOLESALE LTD (a.k.a. OBSHCHESTVO S OGRANICHENNOI OTVETSTVENNOSTIU OPTOVAIA FIRMA VAFA; a.k.a. OOO OF VAFA), ulitsa Generala Yepisheva 20D, Astrakhan, Astrakhan Oblast 414024, Russia; Secondary sanctions risk: See Section 11 of Executive Order 14024.; Organization Established Date 12 Aug 1996; Tax ID No. 3016023425 (Russia); Identification Number IMO 5266323; Business Registration Number 1023000821029 (Russia) [RUSSIA-EO14024].

Designated pursuant to section 1(a)(i) of E.O. 14024 for operating or having operated in the marine sector of the Russian Federation economy.

Vessels

1. OMSKIY-103 (UGDX) General Cargo 2,458GRT Russia flag; Secondary sanctions risk: See Section 11 of Executive Order 14024.; Vessel Year of Build 1978; Vessel Registration Identification IMO 8889385 (vessel) [RUSSIA-EO14024] (Linked To: SEA RIVER SERVICE LIMITED LIABILITY COMPANY).

Identified as property in which SEA RIVER SERVICE LIMITED LIABILITY COMPANY, an entity whose property and interests in property are blocked pursuant to E.O. 14024, has an interest.

2. OMSKIY-119 (UBSW7) General Cargo 2,463GRT Russia flag; Secondary sanctions risk: See Section 11 of Executive Order 14024.; Vessel Year of Build 1980; Vessel Registration Identification IMO 8926913 (vessel) [RUSSIA-EO14024] (Linked To: SEA RIVER SERVICE LIMITED LIABILITY COMPANY).

Identified as property in which SEA RIVER SERVICE LIMITED LIABILITY COMPANY, an entity whose property and interests in property are blocked pursuant to E.O. 14024, has an interest.

3. ZAKAMSK (UBBT3) General Cargo 2,406GRT Russia flag; Secondary sanctions risk: See Section 11 of Executive Order 14024.; Vessel Year of Build 1966; Vessel Registration Identification IMO 8951413 (vessel) [RUSSIA-EO14024] (Linked To: SEA RIVER SERVICE LIMITED LIABILITY COMPANY).

Identified as property in which SEA RIVER SERVICE LIMITED LIABILITY COMPANY, an entity whose property and interests in property are blocked pursuant to E.O. 14024, has an interest.

4. VAFA (UFZS) General Cargo 1,575GRT Russia flag; Secondary sanctions risk: See Section 11 of Executive Order 14024.; Vessel Year of Build 1984; Vessel Registration Identification IMO 8422670 (vessel) [RUSSIA-EO14024] (Linked To: VAFA WHOLESALE LTD).

Identified as property in which VAFA WHOLESALE LTD, an entity whose property and interests in property are blocked pursuant to E.O. 14024, has an interest.

5. VAFA-1 (UHCT) General Cargo 1,570GRT Russia flag; Secondary sanctions risk: See Section 11 of Executive Order 14024.; Vessel Year of Build 1984; Vessel Registration Identification IMO 8422682 (vessel) [RUSSIA-EO14024] (Linked To: VAFA WHOLESALE LTD).

Identified as property in which VAFA WHOLESALE LTD, an entity whose property and interests in property are blocked pursuant to E.O. 14024, has an interest.

Notice of Department of State Actions

On October 30, 2024, the Department of State, in consultation with other departments, as appropriate, determined that the property and interests in property subject to U.S. jurisdiction of the following persons are blocked under the relevant sanctions authority listed below.

Individuals

1. FOMIN, Alexander Vasilyevich (a.k.a. FOMIN, Aleksandr Vasilyevich), Kolymazhnyy Pereulok, Moscow 119019, Russia; DOB 25 May 1959; POB Ridder, Kazakhstan; nationality Russia; Gender Male; Secondary sanctions risk: See Section 11 of Executive Order 14024.; Passport 200276901 (Russia); Tax ID No. 772728554330 (Russia) (individual) [RUSSIA-EO14024].

Designated pursuant to section 1(a)(iii)(A) of E.O. 14024 for being or having been a leader, official, senior executive officer, or member of the board of directors of the Government of the Russian Federation

2. BULYGA, Andrey Mikhaylovich, Russia; DOB 13 Oct 1968; POB Saryozek, Kerbulaksky district, Zhetysu region, Kazakhstan; nationality Russia; Gender Male; Secondary sanctions risk: See Section 11 of Executive Order 14024.; Tax ID No. 272099571004 (Russia) (individual) [RUSSIA-EO14024].

Designated pursuant to section 1(a)(iii)(A) of E.O. 14024 for being or having been a leader, official, senior executive officer, or member of the board of directors of the Government of the Russian Federation

3. FRADKOV, Pavel Mikhaylovich (a.k.a. FRADKOV, Pavel Mikhailovich), Russia; DOB 03 Sep 1981; nationality Russia; Gender Male; Secondary sanctions risk: See Section 11 of Executive Order 14024. (individual) [RUSSIA-EO14024].

Designated pursuant to section 1(a)(iii)(A) of E.O. 14024 for being or having been a leader, official, senior executive officer, or member of the board of directors of the Government of the Russian Federation

4. GOREMYKIN, Viktor Petrovich, Moscow, Russia; DOB 04 Feb 1959; POB Kormovoye, Serebryano-Prudsky district, Moscow, Russia; nationality Russia; Gender Male; Secondary sanctions risk: See Section 11 of Executive Order 14024. (individual) [RUSSIA-EO14024].

Designated pursuant to section 1(a)(iii)(A) of E.O. 14024 for being or having been a leader, official, senior executive officer, or member of the board of directors of the Government of the Russian Federation

5. TSIVILEVA, Anna Evgenyevna (a.k.a. LOGINOVA, Anna Evgenyevna; a.k.a. PUTINA, Anna Evgenyevna); DOB 09 May 1972; POB Ivanovo, Russia; nationality Russia; Gender Female; Secondary sanctions risk: See Section 11 of Executive Order 14024.; Tax ID No. 771921270207 (Russia) (individual) [RUSSIA-EO14024].

Designated pursuant to section 1(a)(iii)(A) of E.O. 14024 for being or having been a leader, official, senior executive officer, or member of the board of directors of the Government of the Russian Federation

Entities

1. JOINT STOCK COMPANY REMVOORUZHENIE (a.k.a. AKTSIONERNOE OBSHCHESTVO REMVOORUZHENIE; a.k.a. AO REMVOORUZHENIE), Ul. 4-ya tverskaya-yamskaya d. 20, str. 1, Moscow 125047, Russia; 22 Frunzenskaya Embankment, Building 2, Moscow 119160, Russia; Secondary sanctions risk: See Section 11 of Executive Order 14024.; Target Type State-Owned Enterprise; Tax ID No. 7704726257 (Russia); Registration Number 1097746264263 (Russia) [RUSSIA-EO14024].

Designated pursuant to section 1(a)(i) of E.O. 14024 for operating or having operated in the defense and related materiel sector of the Russian Federation economy.

2. JOINT STOCK COMPANY 780 NAVIGATION TECHNICAL MEANS REPAIR PLANT (a.k.a. 780 REPAIR PLANT FOR NAVIGATION TECHNICAL EQUIPMENT; a.k.a. AKTSIONERNOE OBSHCHESTVO 780 REMONTNYI ZAVOD TEKHNICHESKIKH SREDSTV KORBLEVOZHDENIIA; a.k.a. AO 780 RZ TSK), d 15 Kostyleva Street, Lomonosov 198412, Russia; Secondary sanctions risk: See Section 11 of Executive Order 14024.; Target Type State-Owned Enterprise; Tax ID No. 7819310946 (Russia); Registration Number 1097847180639 (Russia) [RUSSIA-EO14024].

Designated pursuant to section 1(a)(i) of E.O. 14024 for operating or having operated in the defense and related materiel sector of the Russian Federation economy.

3. JOINT STOCK COMPANY 103 ARSENAL (a.k.a. AKTSIONERNOE OBSHCHESTVO 103 ARSENAL; a.k.a. “AO 103 ARSENAL”), D. 35 Mordovskaya ul., Saransk 430004, Russia; Secondary sanctions risk: See Section 11 of Executive Order 14024.; Target Type State-Owned Enterprise; Tax ID No. 1328001381 (Russia); Registration Number 1091328002358 (Russia) [RUSSIA-EO14024].

Designated pursuant to section 1(a)(i) of E.O. 14024 for operating or having operated in the defense and related materiel sector of the Russian Federation economy.

4. JOINT STOCK COMPANY 63 ARSENAL (a.k.a. “AO 63 ARSENAL”), Lipetsk, Russia; Secondary sanctions risk: See Section 11 of Executive Order 14024.; Target Type State-Owned Enterprise; Tax ID No. 4823038078 (Russia); Registration Number 1094823014846 (Russia) [RUSSIA-EO14024].

Designated pursuant to section 1(a)(i) of E.O. 14024 for operating or having operated in the defense and related materiel sector of the Russian Federation economy.

5. JOINT STOCK COMPANY 5 ARSENAL (a.k.a. AKTSIONERNOE OBSHCHESTVO 5 ARSENAL; a.k.a. “AO 5 ARSENAL”), D. 45 Ul. B. Khmelnitskogo, Alatyr 429826, Russia; Secondary sanctions risk: See Section 11 of Executive Order 14024.; Target Type State-Owned Enterprise; Tax ID No. 2122006437 (Russia); Registration Number 1092131000180 (Russia) [RUSSIA-EO14024].

Designated pursuant to section 1(a)(i) of E.O. 14024 for operating or having operated in the defense and related materiel sector of the Russian Federation economy.

6. JOINT STOCK COMPANY 6 ARSENAL (a.k.a. AKTSIONERNOE OBSHCHESTVO 6 ARSENAL; a.k.a. “AO 6 ARSENAL”), RP. Burmakino, Yaroslavl Oblast 152290, Russia; Secondary sanctions risk: See Section 11 of Executive Order 14024.; Target Type State-Owned Enterprise; Tax ID No. 7621008421 (Russia); Registration Number 1097627002428 (Russia) [RUSSIA-EO14024].

Designated pursuant to section 1(a)(i) of E.O. 14024 for operating or having operated in the defense and related materiel sector of the Russian Federation economy.

7. OPEN JOINT STOCK COMPANY 136 CENTRALNAY BAZA PROIZVODSTVA I REMONTA VOORYGENIY I CREDSTV RADIACIONNOI HIMICHESKOI I BIOLOGICHESKOI ZACHITU (a.k.a. 136 TSBPR), Kambarka, Russia; Secondary sanctions risk: See Section 11 of Executive Order 14024.; Target Type State-Owned Enterprise; Tax ID No. 1838006108 (Russia); Registration Number 1091838000935 (Russia) [RUSSIA-EO14024].

Designated pursuant to section 1(a)(i) of E.O. 14024 for operating or having operated in the defense and related materiel sector of the Russian Federation economy.

8. JOINT STOCK COMPANY SEPARATELY CONSTRUCTOR TECHNOLOGIC OFFICE VEKTOR (a.k.a. AKTSIONERNOE OBSHCHESTVO OTDELNOE KONSTRUKTORSKO TEKHNOLOGICHESKOE BIURO VEKTOR; a.k.a. AO OKTB VEKTOR; a.k.a. OKTB VECTOR), D.4 Ul. Koroleva, Bataysk 346881, Russia; Secondary sanctions risk: See Section 11 of Executive Order 14024.; Target Type State-Owned Enterprise; Tax ID No. 6141032302 (Russia); Registration Number 1096181000585 (Russia) [RUSSIA-EO14024].

Designated pursuant to section 1(a)(i) of E.O. 14024 for operating or having operated in the defense and related materiel sector of the Russian Federation economy.

9. JOINT STOCK COMPANY MAINTENANCE BASE OF AIRCRAFT INSTRUMENTS AND AERODROME EQUIPMENT (a.k.a. AKTSIONERNOE OBSHCHESTVO REMONTNAIA BAZA PO REMONTU AVIATSIONNYKH PRIBOROV I AERODROMNOI TEKHNIKI; a.k.a. FL AO REMBAZA; a.k.a. “AO REMBAZA”), D. 40 Ul. Titova, Balashov 412310, Russia; Nab. tarasa shevchenko d. 23 A, Moscow 121151, Russia; Secondary sanctions risk: See Section 11 of Executive Order 14024.; Target Type State-Owned Enterprise; Tax ID No. 6440020175 (Russia); Registration Number 1096440000425 (Russia) [RUSSIA-EO14024].

Designated pursuant to section 1(a)(i) of E.O. 14024 for operating or having operated in the defense and related materiel sector of the Russian Federation economy.

10. JOINT STOCK COMPANY RESEARCH CENTRE VITYAZ (a.k.a. AKTSIONERNOE OBSHCHESTVO NAUCHNO TEKHNICHESKII TSENTR VITIAZ; a.k.a. AO NTTS VITYAZ), B-R Shchorsa D. 8, Korp. A, Bryansk 241022, Russia; Secondary sanctions risk: See Section 11 of Executive Order 14024.; Target Type State-Owned Enterprise; Tax ID No. 3233502337 (Russia); Registration Number 1093254005503 (Russia) [RUSSIA-EO14024].

Designated pursuant to section 1(a)(i) of E.O. 14024 for operating or having operated in the defense and related materiel sector of the Russian Federation economy.

11. JOINT STOCK COMPANY SPETSTECHNIKA (a.k.a. AKTSIONERNOE OBSHCHESTVO SPETSTEKHNIKA; a.k.a. AO SPETSTEKHNIKA), Ozernyi, Russia; Secondary sanctions risk: See Section 11 of Executive Order 14024.; Target Type State-Owned Enterprise; Tax ID No. 6907010883 (Russia); Registration Number 1096908000760 (Russia) [RUSSIA-EO14024].

Designated pursuant to section 1(a)(i) of E.O. 14024 for operating or having operated in the defense and related materiel sector of the Russian Federation economy.

12. UNITED ENGINE CORPORATION PERM ENGINES RESEARCH AND PRODUCTION COMPLEX (a.k.a. AKTSIONERNOE OBSHCHESTVO ODK PERMSKIE MOTORY; a.k.a. JSC UEC PERM ENGINES; a.k.a. JSC UEC PERM MOTORS; a.k.a. PERM ENGINE COMPANY; a.k.a. PERM MOTOR PLANT; a.k.a. PERM MOTOROSTROITEL PRODUCTION ASSOCIATION; a.k.a. “AO ODK PM”), 93 Komsomolskii Pr-kt, Perm 614990, Russia; Secondary sanctions risk: See Section 11 of Executive Order 14024.; Target Type State-Owned Enterprise; Tax ID No. 5904007312 (Russia); Registration Number 1025900893864 (Russia) [RUSSIA-EO14024].

Designated pursuant to section 1(a)(i) of E.O. 14024 for operating or having operated in the defense and related materiel sector of the Russian Federation economy.

13. ASTRON OPTO MECHANICAL DESIGN BUREAU (a.k.a. AKTSIONERNOE OBSHCHESTVO OPTIKO MEKHANICHESKOE KONSTRUKTORSKOE BIURO ASTRON; a.k.a. AO OKB ASTRON), D. 1, Office 9 Ul. Parkovaya, Lytkarino 140080, Russia; Secondary sanctions risk: See Section 11 of Executive Order 14024.; Target Type State-Owned Enterprise; Tax ID No. 5027224977 (Russia); Registration Number 1155027001690 (Russia) [RUSSIA-EO14024].

Designated pursuant to section 1(a)(i) of E.O. 14024 for operating or having operated in the defense and related materiel sector of the Russian Federation economy.

14. LIMITED LIABILITY COMPANY PRECISION LASER SYSTEMS (a.k.a. PRETSIZIONNYE LAZERNYE SISTEMY), Ul. Komsomola D. 1-3, Lit. S, Pomeshch. 1n, Saint Petersburg 195009, Russia; Secondary sanctions risk: See Section 11 of Executive Order 14024.; Tax ID No. 7804522899 (Russia); Registration Number 1137847498876 (Russia) [RUSSIA-EO14024].

Designated pursuant to section 1(a)(i) of E.O. 14024 for operating or having operated in the defense and related materiel sector of the Russian Federation economy.

15. LIMITED LIABILITY COMPANY OPITNO KONSTRUKTORSKOE BUREAU AVIAAVTOMATIKA (a.k.a. KURSK PRIBOR JSC AVIAAVTOMATIKA; a.k.a. OBSHCHESTVO S OGRANICHENNOI OTVETSTVENNOSTIU OPYTNO KONSTRUKTORSKOE BIURO AVIAAVTOMATIKA; a.k.a. OOO OKB AVIAAVTOMATIKA), 47 Zapolnaia ul., Kursk 305040, Russia; Secondary sanctions risk: See Section 11 of Executive Order 14024.; Tax ID No. 4632071042 (Russia); Registration Number 1064632050152 (Russia) [RUSSIA-EO14024].

Designated pursuant to section 1(a)(i) of E.O. 14024 for operating or having operated in the defense and related materiel sector of the Russian Federation economy.

16. PUBLIC JOINT STOCK COMPANY SCIENTIFIC PRODUCTION ENTERPRISE IMPULSE (a.k.a. IMPULS RESEARCH AND DEVELOPMENT ENTERPRISE; a.k.a. PAO NPP IMPULSE; a.k.a. PJSC RESEARCH AND PRODUCTION ASSOCIATION IMPULSE; a.k.a. PUBLICHNOE AKTCIONERNOE OBSHCHESTVO NAUCHNO PROIZVODSTVENNOE PREDPRIIATIE IMPULS), 102 Mira Avenue, Moscow 129626, Russia; Secondary sanctions risk: See Section 11 of Executive Order 14024.; Organization Established Date 03 Jun 1994; Target Type State-Owned Enterprise; Tax ID No. 7717022177 (Russia); Registration Number 1027700206511 (Russia) [RUSSIA-EO14024].

Designated pursuant to section 1(a)(i) of E.O. 14024 for operating or having operated in the defense and related materiel sector of the Russian Federation economy.

17. JOINT STOCK COMPANY SCIENTIFIC PRODUCTION ENTERPRISE PLANT ISKRA (a.k.a. AKTSIONERNOE OBSHCHESTVO NAUCHNO PROIZVODSTVENNOE PREDPRIIATIE ZAVOD ISKRA; a.k.a. AO NAUCHNO PROIZVODSTVENNOE PREDPRIYATIE ZAVOD ISKRA; a.k.a. AO NPP ZAVOD ISKRA; a.k.a. JSC RESEARCH AND PRODUCTION ENTERPRISE PLANT ISKRA; a.k.a. NPP PLANT ISKRA), 75 Narimanov Avenue, Ulyanovsk 432030, Russia; Secondary sanctions risk: See Section 11 of Executive Order 14024.; Organization Established Date 26 Jun 2008; Target Type State-Owned Enterprise; Tax ID No. 7325081527 (Russia); Registration Number 1087325005756 (Russia) [RUSSIA-EO14024].

Designated pursuant to section 1(a)(i) of E.O. 14024 for operating or having operated in the defense and related materiel sector of the Russian Federation economy.

18. JOINT STOCK COMPANY 261 REPAIR FACTORY OF FUEL FILLING AND TRANSPORTATION (a.k.a. 261ST REPAIR PLANT; a.k.a. AKTSIONERNOE OBSHCHESTVO 261 REMONTNYI ZAVOD SREDSTV ZAPRAVKI I TRANSPORTIROVANIIA GORIUCHEGO; a.k.a. AO 261 REMONTNYI ZAVOD), Pankovka, Russia; Secondary sanctions risk: See Section 11 of Executive Order 14024.; Target Type State-Owned Enterprise; Tax ID No. 5310015581 (Russia); Registration Number 1095321003260 (Russia) [RUSSIA-EO14024].

Designated pursuant to section 1(a)(i) of E.O. 14024 for operating or having operated in the manufacturing sector of the Russian Federation economy.

19. JOINT STOCK COMPANY 78 CENTRAL ENGINEERING BASE (a.k.a. AO 78 TSENTRALNAYA INZHENERNAYA BAZA), D. 2 Ul. Karbysheva, Syzran 446024, Russia; Secondary sanctions risk: See Section 11 of Executive Order 14024.; Target Type State-Owned Enterprise; Tax ID No. 6325051400 (Russia); Registration Number 1096325001321 (Russia) [RUSSIA-EO14024].

Designated pursuant to section 1(a)(i) of E.O. 14024 for operating or having operated in the manufacturing sector of the Russian Federation economy.

20. SPECIAL SYSTEMS PHOTONICS LLC, D. 64, lit. e, pomeshch 2-n, pr-kt Bolshoi Sampsonievskii, office 706, Saint Petersburg 194044, Russia; Secondary sanctions risk: See Section 11 of Executive Order 14024.; Tax ID No. 7802570752 (Russia); Registration Number 1167847155068 (Russia) [RUSSIA-EO14024].

Designated pursuant to section 1(a)(i) of E.O. 14024 for operating or having operated in the manufacturing sector of the Russian Federation economy.

21. JOINT STOCK COMPANY 171 SEPARATE DESIGN TECHNOLOGICAL BUREAU (a.k.a. AKTSIONERNOE OBSHCHESTVO 171 OTDELNOE KONSTRUKTORSKO TEKHNOLOGICHESKOE BIURO; a.k.a. AO 171 OKTB), D. 100 Admirala Lobova Ul., Murmansk 183017, Russia; Secondary sanctions risk: See Section 11 of Executive Order 14024.; Target Type State-Owned Enterprise; Tax ID No. 5190904177 (Russia); Registration Number 1095190006328 (Russia) [RUSSIA-EO14024].

Designated pursuant to section 1(a)(i) of E.O. 14024 for operating or having operated in the engineering sector of the Russian Federation economy.

22. JOINT STOCK COMPANY 18TH NAVY SPECIAL DESIGN AND ENGINEERING OFFICE (a.k.a. AKTSIONERNOE OBSHCHESTVO 18 SPETSIALIZIROVANNOE KONSTRUKTORSKO TEKHNOLOGICHESKOE BIURO VOENNO MORSKOGO FLOTA; a.k.a. AO 18 SKTB VMF), Liniiya 11-Ya V.O., D. 8, Saint Petersburg 199034, Russia; Secondary sanctions risk: See Section 11 of Executive Order 14024.; Target Type State-Owned Enterprise; Tax ID No. 7801497725 (Russia); Registration Number 1097847180650 (Russia) [RUSSIA-EO14024].

Designated pursuant to section 1(a)(i) of E.O. 14024 for operating or having operated in the marine sector of the Russian Federation economy.

23. JOINT STOCK COMPANY 51 CENTRAL DESIGN TECHNOLOGICAL INSTITUTE SHIP REPAIR (a.k.a. AKTSIONERNOE OBSHCHESTVO 51 TSENTRALNYI KONSTRUKTORSKO TEKHNOLOGICHESKII INSTITUT SUDOREMONTA; a.k.a. AO 51 TSKTIS), Ul. Mikhailovskaya, D.14, Lomonosov 198412, Russia; Secondary sanctions risk: See Section 11 of Executive Order 14024.; Target Type State-Owned Enterprise; Tax ID No. 7819310907 (Russia); Registration Number 1097847176822 (Russia) [RUSSIA-EO14024].

Designated pursuant to section 1(a)(i) of E.O. 14024 for operating or having operated in the marine sector of the Russian Federation economy.

24. OOO IP NTSVO FOTONIKA (a.k.a. INNOVATIVE ENTERPRISE FORC PHOTONICS; a.k.a. LLC FE NTSVO PHOTONIKA; a.k.a. LLC INNOVATIVE ENTERPRISE NTSVO PHOTONIKA; a.k.a. OBSHCHESTVO S OGRANICHENNOI OTVETSTVENNOSTIU INNOVATSIONNOE PREDPRIIATIE NTSVO FOTONIKA), 20 str. 3, Et 4 Pomeshch. l komn., 5 Proezd Nauchnvi, Moscow 117246, Russia; Secondary sanctions risk: See Section 11 of Executive Order 14024.; Tax ID No. 7736523556 (Russia); Registration Number 1057747239769 (Russia) [RUSSIA-EO14024].

Designated pursuant to section 1(a)(i) of E.O. 14024 for operating or having operated in the technology sector of the Russian Federation economy.

Designated pursuant to section 1(a)(vi)(B) of E.O. 14024 for having materially assisted, sponsored, or provided financial, material, or technological support for, or goods or services to or in support of OPEN JOINT STOCK COMPANY ROCHEVSKY ZAVOD DIAPROEKTOR, a person whose property and interests in property are blocked pursuant to E.O. 14024.

26. ROSATOM DIGITAL SOLUTIONS LIMITED LIABILITY COMPANY (a.k.a. RUSATOM DIGITAL SOLUTIONS; a.k.a. “RDS LLC”), Per. Kholodilnyi D. 3, Str. 2, Moscow 115191, Russia; Secondary sanctions risk: See Section 11 of Executive Order 14024.; Target Type State-Owned Enterprise; Tax ID No. 7726447225 (Russia); Registration Number 1197746082093 (Russia) [RUSSIA-EO14024].

Designated pursuant to section 1(a)(vii) of E.O. 14024 for being owned or controlled by, or having acted or purported to act for or on behalf of, directly or indirectly, the Government of the Russian Federation.

27. ROSATOM MICROELECTRONICS JOINT STOCK COMPANY (a.k.a. “RAM JSC”), ul. Raspletina, 5 str. 1, Moscow 123060, Russia; Secondary sanctions risk: See Section 11 of Executive Order 14024.; Target Type State-Owned Enterprise; Tax ID No. 7721566412 (Russia); Registration Number 5067746792779 (Russia) [RUSSIA-EO14024].

Designated pursuant to section 1(a)(vii) of E.O. 14024 for being owned or controlled by, or having acted or purported to act for or on behalf of, directly or indirectly, the Government of the Russian Federation.

28. AO TSIFROVYE PLATFORMY I RESHENIYA UMNOGO GORODA (a.k.a. AKTSIONERNOE OBSHCHESTVO RUSATOM INFRASTRUKTURNYE RESHENIIA; a.k.a. AKTSIONERNOE OBSHCHESTVO TSIFROVYE PLATFORMY RESHENIIA UMNOGO GORODA), 52 str. 2, nab. Ozerkovskaia, Moscow 115054, Russia; Ul. Bolshaya Ordynka D. 40, STR. 1, Moscow 119017, Russia; Secondary sanctions risk: See Section 11 of Executive Order 14024.; Target Type State-Owned Enterprise; Tax ID No. 1197746546282 (Russia); Registration Number 9706002422 (Russia) [RUSSIA-EO14024].

Designated pursuant to section 1(a)(vii) of E.O. 14024 for being owned or controlled by, or having acted or purported to act for or on behalf of, directly or indirectly, the Government of the Russian Federation.

29. MMP ELECTRONICS COMP CO LTD, 34 CP Tower 3 Building A, 4th Floor, Phaya Thai Road, Thung Phaya Thai Sub District, Ratchathewi District, Bangkok 10400, Thailand; Secondary sanctions risk: See Section 11 of Executive Order 14024.; Organization Established Date 26 Apr 2022; Registration Number 0105565069580 (Thailand) [RUSSIA-EO14024].

Designated pursuant to section 1(a)(i) of E.O. 14024 for operating or having operated in the electronics sector of the Russian Federation economy.

30. OBSHCHESTVO S OGRANICHENNOI OTVETSTVENNOSTIU MODUL ELEKTRONIKA (a.k.a. OOO MODUL ELEKTRONIKA), D. 44, Floor 5 Pom. 54 Ul. Ryabinovaya, Moscow 121471, Russia; Secondary sanctions risk: See Section 11 of Executive Order 14024.; Tax ID No. 7734354937 (Russia); Registration Number 1157746479505 (Russia) [RUSSIA-EO14024].

Designated pursuant to section 1(a)(i) of E.O. 14024 for operating or having operated in the electronics sector of the Russian Federation economy.

Renee P. Sonderman,
Acting Deputy Assistant Secretary, Bureau of Arms Control and Nonproliferation, Department of State.

[FR Doc. 2025-23017 Filed 12-16-25; 8:45 am]

BILLING CODE 4710-27-P